DEPARTMENT OF HOUSING AND URBAN DEVELOPMENT

[Docket No. FR-4644-N-36]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless versus Veterans Administration, No. 88-25031-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Mr. Jeff Holste, Military Programs, U.S. Army Corps of Engineers, Installation Support Center, Planning Branch, Attn: CEMP-IP, 441 G Street, NW., Washington, DC 20314-1000; (202) 761-5737; NAVY: Mr. Charles C. Cocks, Director, Department of the Navy, Real Estate Policy Division, Naval Facilities Engineering Command, Washington Navy Yard, 1322 Patterson Ave., SE., Suite 1000, Washington DC 20374-5065; (202) 685-9200; (These are not toll-free numbers).

Dated: August 31, 2001.
John D. Garrity,
Director, Office of Special Needs Assistance Programs.

Title V, Federal Surplus Property Program Federal Register report for 9/7/01

Suitable/Available Properties

Buildings (by State)

California

Bldgs. 18026, 18028

Camp Roberts

Monterey Co: CA 93451-5000

Landholding Agency: Army

Property Number: 21200130081

Status: Excess

Comment: 2024 sq. ft. & 487 sq. ft., concrete, poor condition, off-site use only

Bldg. 301

Naval Support Activity

Monterey Co: CA 93943-

Landholding Agency: Navy

Property Number: 77200020041

Status: Excess

Comment: 18,608 sq. ft., presence of asbestos/lead paint, needs major rehab

Bldg. 371

Naval Warfare Systems Center

San Diego Co: CA 92152-

Landholding Agency: Navy

Property Number: 77200020080

Status: Unutilized

Comment: 29,800 sq. ft., needs rehab, presence of asbestos/lead paint, off-site use only

Bldg. 402

Naval Warfare Systems Center

San Diego Co: CA 92152-

Landholding Agency: Navy

Property Number: 77200020081

Status: Unutilized

Comment: Presence of lead paint, most recent use—storage, off-site use only

Bldg. 417

Naval Warfare Systems Center

San Diego Co: CA 92152-

Landholding Agency: Navy

Property Number: 77200020082

Status: Unutilized

Comment: 110 TR, needs rehab, presence of asbestos/lead paint, off-site use only

Bldg. 418

Naval Warfare Systems Center

San Diego Co: CA 92152-

Landholding Agency: Navy

Property Number: 77200020083

Status: Unutilized

Comment: 288 sq. ft., presence of lead paint, most recent use—storage, off-site use only

Bldg. 426

Naval Warfare Systems Center

San Diego Co: CA 92152-

Landholding Agency: Navy

Property Number: 77200020084

Status: Unutilized

Comment: presence of asbestos/lead paint, off-site use only

Bldg. 434

Naval Warfare Systems Center

San Diego Co: CA 92152-

Landholding Agency: Navy

Property Number: 77200020085

Status: Unutilized

Comment: 11,440 sq. ft., needs rehab, presence of asbestos/lead paint, off-site use only

Bldg. 210

Naval Warfare Assessment Station

Corona Co: CA 91718-5000

Landholding Agency: Navy

Property Number: 77200020086

Status: Unutilized

Comment: 17,708 sq. ft., needs rehab, presence of asbestos/lead paint, most recent use—police station, off-site use only

Bldg. 541

Naval Warfare Assessment Station

Corona Co: CA 91718-5000

Landholding Agency: Navy

Property Number: 77200020087

Status: Unutilized

Comment: 3857 sq. ft., needs rehab, presence of asbestos/lead paint, most recent use—lab, off-site use only

Bldg. 804

Naval Warfare Assessment Station

Corona Co: CA 91718-5000

Landholding Agency: Navy

Property Number: 77200020088

Status: Unutilized

Comment: 3119 sq. ft., needs rehab, presence of asbestos/lead paint, most recent use—admin., off-site use only

Bldg. 805

Naval Warfare Assessment Station

Corona Co: CA 91718-5000

Landholding Agency: Navy

Property Number: 77200020089

Status: Unutilized

Comment: 3732 sq ft., needs rehab, presence of asbestos/lead paint, most recent use—storage, off-site use only

Bldg. 806

Naval Warfare Assessment Station

Corona Co: CA 91718-5000

Landholding Agency: Navy

Property Number: 77200020090

Status: Unutilized

Comment: 3110 sq. ft., needs rehab, presence of asbestos/lead paint, most recent use—office, off-site use only

Bldg. 807

Naval Warfare Assessment Station

Corona Co: CA 91718-5000

Landholding Agency: Navy

Property Number: 77200020091

Status: Unutilized

Comment: 3110 sq. ft., needs rehab, presence of asbestos/lead paint, most recent use—office, off-site use only

Bldgs. 23027, 23025

Marine Corps Air Station

Miramar Co: San Diego CA 92132-

Landholding Agency: Navy

Property Number: 77200040023

Status: Unutilized

Comment: 400 sq. ft., metal siding, most recent use—loading facility, off-site use only

Bldg. 200

Naval Postgraduate School

Monterey Co: CA 93943-

Landholding Agency: Navy

Property Number: 77200110007

Status: Excess

Comment: 7390 sq. ft., needs rehab, presence of asbestos/lead paint, most recent use—police station

Bldg. 205

Naval Postgraduate School

Monterey Co: CA 93943-

Landholding Agency: Navy

Property Number: 77200110008

Status: Excess

Comment: 3886 sq. ft., needs rehab, presence of asbestos/lead paint, most recent use—offices

Bldg. 211

Naval Postgraduate School

Monterey Co: CA 93943-

Landholding Agency: Navy

Property Number: 77200110009

Status: Excess

Comment: 6329 sq. ft., needs rehab, presence of asbestos/lead paint, most recent use—offices

Bldg. 228

Naval Postgraduate School

Monterey Co: CA 93943-

Landholding Agency: Navy

Property Number: 77200110010

Status: Excess

Comment: 6000 sq. ft., needs rehab, presence of asbestos/lead paint, most recent use—fitness center

Bldg. 12174

Naval Air Weapons Station

China Lake Co: CA 93555-6100

Landholding Agency: Navy

Property Number: 77200110048

Status: Excess

Comment: 480 sq. ft., most recent use—change house, off-site use only

Bldg. 16007

Naval Air Weapons Station

China Lake Co: CA 93555-6100

Landholding Agency: Navy

Property Number: 77200110049

Status: Excess

Comment: 300 sq. ft., most recent use—firing station, off-site use only

Bldg. 16009

Naval Air Weapons Station

China Lake Co: CA 93555-6100

Landholding Agency: Navy

Property Number: 77200110050

Status: Excess

Comment: most recent use—camera station, off-site use only

Bldg. 16025

Naval Air Weapons Station

China Lake Co: CA 93555-6100

Landholding Agency: Navy

Property Number: 77200110051

Status: Excess

Comment: 4220 sq. ft., most recent use—offices, off-site use only

Bldg. 16052

Naval Air Weapons Station

China Lake Co: CA 93555-6100

Landholding Agency: Navy

Property Number: 77200110052

Status: Excess

Comment: 560 sq. ft., most recent use—storage, off-site use only

Bldg. 31497

Naval Air Weapons Station

China Lake Co: CA 93555-6100

Landholding Agency: Navy

Property Number: 77200110053

Status: Excess

Comment: most recent use—fragmentation pool, off-site use only

Bldg. 31501

Naval Air Weapons Station

China Lake Co: CA 93555-6100

Landholding Agency: Navy

Property Number: 77200110054

Status: Excess

Comment: 3666 sq. ft., most recent use—lab, off-site use only

Bldg. 31520

Naval Air Weapons Station

China Lake Co: CA 93555-6100

Landholding Agency: Navy

Property Number: 77200110055

Status: Excess

Comment: 693 sq. ft., most recent use—storage, off-site use only

Bldg. 31522

Naval Air Weapons Station

China Lake Co: CA 93555-6100

Landholding Agency: Navy

Property Number: 77200110056

Status: Excess

Comment: 144 sq. ft., most recent use—equip. bldg., off-site use only

Bldg. 31584

Naval Air Weapons Station

China Lake Co: CA 93555-6100

Landholding Agency: Navy

Property Number: 77200110057

Status: Excess

Comment: 113 sq. ft., most recent use—storage, off-site use only

Bldg. 31585

Naval Air Weapons Station

China Lake Co: CA 93555-6100

Landholding Agency: Navy

Property Number: 77200110058

Status: Excess

Comment: most recent use—testing tower, off-site use only

Bldg. 31587

Naval Air Weapons Station

China Lake Co: CA 93555-6100

Landholding Agency: Navy

Property Number: 77200110059

Status: Excess

Comment: most recent use—obsv. tower, off-site use only

Bldg. 32527

Naval Air Weapons Station

China Lake Co: CA 93555-6100

Landholding Agency: Navy

Property Number: 77200110060

Status: Excess

Comment: most recent use—equip. shelter, off-site use only

Bldg. 32528

Naval Air Weapons Station

China Lake Co: CA 93555-6100

Landholding Agency: Navy

Property Number: 77200110061

Status: Excess

Comment: 192 sq. ft., most recent use—control station, off-site use only

Bldg. 32529

Naval Air Weapons Station

China Lake Co: CA 93555-6100

Landholding Agency: Navy

Property Number: 77200110062

Status: Excess

Comment: 300 sq. ft., most recent use—control bldg., off-site use only

Bldg. 32574

Naval Air Weapons Station

China Lake Co: CA 93555-6100

Landholding Agency: Navy

Property Number: 77200110063

Status: Excess

Comment: most recent use—hazmat pad, off-site use only

Bldg. 32575

Naval Air Weapons Station

China Lake Co: CA 93555-6100

Landholding Agency: Navy

Property Number: 77200110064

Status: Excess

Comment: most recent use—hazmat pad, off-site use only

Bldg. 7

Naval Station

San Diego Co: CA 92136-

Landholding Agency: Navy

Property Number: 77200110074

Status: Unutilized

Comment: 47,442 sq. ft., needs rehab, presence of lead paint, most recent use—warehouse, off-site use only

Bldg. 117

Naval Station

San Diego Co: CA 92136-

Landholding Agency: Navy

Property Number: 77200110075

Status: Unutilized

Comment: 17,682 sq. ft., needs rehab, most recent use—machine shop, off-site use only

Bldg. 149

Naval Station

San Diego Co: CA 92136-

Landholding Agency: Navy

Property Number: 77200110076

Status: Unutilized

Comment: 1617 sq. ft., needs rehab, most recent use—storage, off-site use only

Bldg. 245

Naval Station

San Diego Co: CA 92136-

Landholding Agency: Navy

Property Number: 77200110077

Status: Unutilized

Comment: 1200 sq. ft., needs rehab, presence of asbestos/lead paint, most recent use—valve shop, off-site use only

Bldg. 3123

Naval Station

San Diego Co: CA 92136-

Landholding Agency: Navy

Property Number: 77200110078

Status: Unutilized

Comment: 3360 sq. ft., needs rehab, presence of asbestos, most recent use—cafeteria, off-site use only

Bldg. 3327

Naval Station

San Diego Co: CA 92136-

Landholding Agency: Navy

Property Number: 77200110079

Status: Unutilized

Comment: 240 sq. ft., needs rehab, presence of lead paint, most recent use—flame spray, off-site use only

Bldg. 3442

Naval Station

San Diego Co: CA 92136-

Landholding Agency: Navy

Property Number: 77200110080

Status: Unutilized

Comment: 1080 sq. ft., needs rehab, most recent use—picnic canopy, off-site use only

Bldg. 3482

Naval Station

San Diego Co: CA 92136-

Landholding Agency: Navy

Property Number: 77200110081

Status: Unutilized

Comment: 280 sq. ft., needs rehab, off-site use only

Bldg. 01290

Naval Air Weapons Station

China Lake Co: CA 93555-6100

Landholding Agency: Navy

Property Number: 77200120090

Status: Excess

Comment: 460 sq. ft., most recent use—garage, off-site use only

Bldg. 02453

Naval Air Weapons Station

China Lake Co: CA 93555-6001

Landholding Agency: Navy

Property Number: 77200120110

Status: Excess

Comment: 48 sq. ft., most recent use—storage locker, off-site use only

Bldg. 32027

Naval Air Weapons Station

China Lake Co: CA 93555-6001

Landholding Agency: Navy

Property Number: 77200120111

Status: Excess

Comment: 331 sq. ft., off-site use only

Bldg. 32534

Naval Air Weapons Station

China Lake Co: CA 93555-6001

Landholding Agency: Navy

Property Number: 77200120112

Status: Excess

Comment: 2252 sq. ft., most recent use—repair shop, off-site use only

Bldg. 32537

Naval Air Weapons Station

China Lake Co: CA 93444-6001

Landholding Agency: Navy

Property Number: 77200120113

Status: Excess

Comment: most recent use—instrument bldg., off-site use only

Colorado

Bldg. F-107

Fort Carson

Ft. Carson Co: El Paso CO 80913-

Landholding Agency: Army

Property Number: 21200130082

Status: Unutilized

Comment: 10,126 sq. ft., poor condition, possible asbestos/lead paint, most recent use—storage, off-site use only

Bldg. T-108

Fort Carson

Ft. Carson Co: El Paso CO 80913-

Landholding Agency: Army

Property Number: 21200130083

Status: Unutilized

Comment: 9000 sq. ft., poor condition, possible asbestos/lead paint, most recent use—storage, off-site use only

Bldg. T-209

Fort Carson

Ft. Carson Co: El Paso CO 80913-

Landholding Agency: Army

Property Number: 21200130084

Status: Unutilized

Comment: 400 sq. ft., poor condition, possible asbestos/lead paint, most recent use—maint. shop, off-site use only

Bldg. T-217

Fort Carson

Ft. Carson Co: El Paso CO 80913-

Landholding Agency: Army

Property Number: 21200130085

Status: Unutilized

Comment: 9000 sq. ft., poor condition, possible asbestos/lead paint, most recent use—maint., off-site use only

Bldg. T-218

Fort Carson

Ft. Carson Co: El Paso CO 80913-

Landholding Agency: Army

Property Number: 21200130086

Status: Unutilized

Comment: 9000 sq. ft., poor condition, possible asbestos/lead paint, most recent use—maint., off-site use only

Bldg. T-220

Fort Carson

Ft. Carson Co: El Paso CO 80913-

Landholding Agency: Army

Property Number: 21200130087

Status: Unutilized

Comment: 690 sq. ft., poor condition, possible asbestos/lead paint, most recent use—heat plant, off-site use only

Bldg. T-6001

Fort Carson

Ft. Carson Co: El Paso CO 80913-

Landholding Agency: Army

Property Number: 21200130088

Status: Unutilized

Comment: 4372 sq. ft., poor condition, possible asbestos/lead paint, most recent use—vet clinic, off-site use only

Connecticut

Bldgs. 31, 78, 91

Naval Submarine Base

New London

Groton Co: New London CT 06349-

Landholding Agency: Navy

Property Number: 77200030055

Status: Unutilized

Comment: Total sq. ft. = 41,809, presence of asbestos, most recent use—storage/training/repair, off-site use only

Bldg. 406

Naval Submarine Base

New London

Groton Co: New London CT 06349-

Landholding Agency: Navy

Property Number: 77200030056

Status: Unutilized

Comment: 13,546 sq. ft., needs rehab, presence of asbestos, most recent use—shop, off-site use only

Bldg. 392

Naval Sub Base New London

Groton Co: CT 06349-

Landholding Agency: Navy

Property Number: 77200030065

Status: Unutilized

Comment: 996 sq. ft., needs repair, possible asbestos/lead paint, most recent use—storage, off-site use only

Hawaii

Bldg. T-158

Pohakuloa Training Area

Pohakuloa Co: HI 96857-

Landholding Agency: Army

Property Number: 21200130089

Status: Unutilized

Comment: 984 sq. ft. quonset hut, off-site use only

Bldg. T-207

Pohakuloa Training Area

Pohakuloa Co: HI 96857-

Landholding Agency: Army

Property Number: 21200130090

Status: Unutilized

Comment: 1968 sq. ft. quonset hut

Bldg. S87, Radio Trans. Fac.

Lualualei, Naval Station, Eastern Pacific

Wahiawa Co: Honolulu HI 96786-3050

Landholding Agency: Navy

Property Number: 77199240011

Status: Unutilized

Comment: 7566 sq. ft., 1-story, needs rehab, most recent use—storage, off-site use only

Bldg. 64, Radio Trans Facility

Naval Computer & Telecommunications Area

Wahiawa Co: Honolulu HI 96786-3050

Landholding

Property Number: 77199310004

Status: Unutilized

Comment: 3612 sq. ft., 1 story, access restrictions, needs rehab, most recent use—storage, off-site use only.

Bldg. 442, Naval Station

Ford Island

Pearl Harbor Co: Honolulu HI 96860-

Landholding Agency: Navy

Property Number: 77199630088

Status: Excess

Comment: 192 sq. ft., most recent use—storage, off-site use only

Bldg. S180

Naval Station, Ford Island

Pearl Harbor Co: Honolulu HI 96860-

Landholding Agency: Navy

Property Number: 77199640039

Status: Unutilized

Comment: 3412 sq. ft., 2-story, most recent use—bomb shelter, off-site use only, relocation may not be feasible

Bldg. S181

Naval Station, Ford Island

Pearl Harbor Co: Honolulu HI 96860-

Landholding Agency: Navy

Property Number: 77199640040

Status: Unutilized

Comment: 4258 sq. ft., 1-story, most recent use—bomb shelter, off-site use only, relocation may not be feasible

Bldg. 219

Naval Station, Ford Island

Pearl Harbor Co: Honolulu HI 96860-

Landholding Agency: Navy

Property Number: 77199640041

Status: Unutilized

Comment: 620 sq. ft., most recent use—damage control, off-site use only, relocation may not be feasible

Bldg. 220

Naval Station, Ford Island

Pearl Harbor Co: Honolulu HI 96860-

Landholding Agency: Navy

Property Number: 77199640042

Status: Unutilized

Comment: 620 sq. ft., most recent use—damage control, off-site use only, relocation may not be feasible

Bldg. 160

Naval Station, Pearl Harbor

Pearl Harbor Co: Honolulu HI 96860-

Landholding Agency: Navy

Property Number: 77199840002

Status: Excess

Comment: 6070 sq. ft., needs rehab, presence of lead paint, most recent use—storage/office, off-site use only

8 Bldgs.

Iroquois Point Navy Housing

Ewa Beach Co: HI 96706-

Location: #5404, 5409, 5415, 5441, 5403, 5411, 5413, 5435

Landholding Agency: Navy

Property Number: 77200110015 Status: Unutilized Comment: 1808 to 2000 sq. ft., presence of asbestos/lead paint, most recent use—residential, off-site use only

Kansas

Bldg. P-394

Fort Leavenworth

Leavenworth Co: KS 66027-

Landholding Agency: Army

Property Number: 21200130091

Status: Unutilized

Comment: 504 sq. ft., needs rehab, most recent use—storage, off-site use only

Maine

Bldg. 4

Naval Air Station

Brunswick Co: ME 04011-

Landholding Agency: Navy

Property Number: 77199930005

Status: Excess

Comment: 16,644 sq. ft., presence of asbestos/lead paint, most recent use—headquarters building, off-site use only

Bldg. 8

Naval Air Station

Brunswick Co: ME 04011-

Landholding Agency: Navy

Property Number: 77199930006

Status: Excess

Comment: 7413 sq. ft., presence of asbestos/lead paint, most recent use—public works building, off-site use only

Bldg. 12

Naval Air Station

Brunswick Co: ME 04011-

Landholding Agency: Navy

Property Number: 77199930007

Status: Excess

Comment: 25,354 sq. ft., presence of asbestos/lead paint, most recent use—admin., off-site use only

Bldg. 41

Naval Air Station

Brunswick Co: ME 04011-

Landholding Agency: Navy

Property Number: 77199930008

Status: Excess

Comment: 10,526 sq. ft., presence of asbestos/lead paint, most recent use—security building, off-site use only

Maryland

Bldg. 503

Fort George G. Meade

Ft. Meade Co: Anne Arundel MD 20755-5115

Landholding Agency: Army

Property Number: 21200130092

Status: Unutilized

Comment: 14,244 sq. ft., needs rehab, presence of asbestos/lead paint, most recent use—training, off-site use only

Bldg. 2222A

Fort George G. Meade

Ft. Meade Co: Anne Arundel MD 20755-5115

Landholding Agency: Army

Property Number: 21200130095

Status: Unutilized

Comment: 66 sq. ft., most recent use—storage, off-site use only

Bldg. 2222B

Fort George G. Meade

Ft. Meade Co: Anne Arundel MD 20755-5115

Landholding Agency: Army

Property Number: 21200130096

Status: Unutilized

Comment: most recent use—storage, off-site use only

Bldg. 2478

Fort George G. Meade

Ft. Meade Co: Anne Arundel MD 20755-5115

Landholding Agency: Army

Property Number: 21200130097

Status: Unutilized

Comment: 4720 sq. ft., needs rehab, presence of asbestos/lead paint, most recent use—medical clinic, off-site use only

Bldg. 8481

Fort George G. Meade

Ft. Meade Co: Anne Arundel MD 20755-5115

Landholding Agency: Army

Property Number: 21200130098

Status: Unutilized

Comment: 7718 sq. ft., needs rehab, presence of asbestos/lead paint, most recent use—heat plant, off-site use only.

Bldg. 139

Naval Surface Warfare Center

Carderock Division

West Bethesda Co: Montgomery MD 20817-5700

Landholding Agency: Navy

Property Number: 77200010032

Status: Unutilized

Comment: 4950 sq. ft., possible asbestos/lead paint, most recent use—wind tunnel, off-site use only

Bldg. 104

Naval Surface Warfare

Carderock Division

West Bethesda Co: Montgomery MD 20817-5700

Landholding Agency: Navy

Property Number: 77200120079

Status: Unutilized

Comment: 8050 sq. ft., most recent use—garage, off-site use only

Bldg. 109

Naval Surface Warfare

West Bethesda Co: Montgomery MD 20817-5000

Landholding Agency: Navy

Property Number: 77200120080

Status: Unutilized

Comment: 9650 sq. ft., needs rehab, possible asbestos/lead paint, most recent use—storage, off-site use only

Bldg. 110

Naval Surface Warfare

West Bethesda Co: Montgomery MD 20817-5700

Landholding Agency: Navy

Property Number: 77200120081

Status: Unutilized

Comment: 10,750 sq. ft., needs rehab, presence of asbestos/lead paint, most recent use—storage, off-site use only

Bldg. 111

Naval Surface Warfare

West Bethesda Co: Montgomery MD 20817-5700

Landholding Agency: Navy

Property Number: 77200120082

Status: Unutilized

Comment: 4220 sq. ft., most recent use—office, off-site use only

Bldg. 112

Naval Surface Warfare

West Bethesda Co: Montgomery MD 20817-5700

Landholding Agency: Navy

Property Number: 77200120083

Status: Unutilized

Comment: 2440 sq. ft., most recent use—printing bldg., off-site use only

Bldg. 113

Naval Surface Warfare

West Bethesda Co: Montgomery MD 20817-5700

Landholding Agency: Navy

Property Number: 77200120084

Status: Unutilized

Comment: 2440 sq. ft., most recent use—lab, off-site use only

Bldg. 143

Naval Surface Warfare

West Bethesda Co: MD 20817-5700

Landholding Agency: Navy

Property Number: 77200120085

Status: Unutilized

Comment: 16,950 sq. ft., needs rehab, presence of asbestos/lead paint, most recent use—storage, off-site use only

Bldg. 152

Naval Surface Warfare

West Bethesda Co: Montgomery MD 20817-5700

Landholding Agency: Navy

Property Number: 77200120086

Status: Unutilized

Comment: 1400 sq. ft., most recent use—fire house annex, off-site use only

Bldg. 159

Naval Surface Warfare

West Bethesda Co: Montgomery MD 20817-5700

Landholding Agency: Navy

Property Number: 77200120087

Status: Unutilized

Comment: 605 sq. ft., needs rehab, presence of asbestos/lead paint, most recent use—hazardous waste storage, off-site use only

Bldg. 187

Naval Surface Warfare

West Bethesda Co: Montgomery MD 20817-5700

Landholding Agency: Navy

Property Number: 77200120088

Status: Unutilized

Comment: 768 sq. ft., most recent use—pump house, off-site use only

Bldg. 117

Naval Surface Warfare Center

Carderock Division

West Bethesda Co: Montgomery MD 20817-5700

Landholding Agency: Navy

Property Number: 77200120102

Status: Unutilized

Comment: 400 sq. ft., needs rehab, most recent use—storage, off-site use only

Bldg. 124

Naval Surface Warfare Center

Carderock Division

West Bethesda Co: Montgomery MD 20817-5700

Landholding Agency: Navy

Property Number: 77200120103

Status: Unutilized

Comment: 480 sq. ft., needs rehab, most recent use—warehouse, off-site use only

Bldg. 130

Naval Surface Warfare Center

Carderock Division

West Bethesda Co: Montgomery MD 20817-5700

Landholding Agency: Navy

Property Number: 77200120104

Status: Unutilized

Comment: 2225 sq. ft., needs rehab, presence of asbestos/lead paint, most recent use—storage/recycling, off-site use only

Bldg. 181

Naval Surface Warfare Center

Carderock Division

West Bethesda Co: Montgomery MD 20817-5700

Landholding Agency: Navy

Property Number: 77200120105

Status: Unutilized

Comment: 491 sq. ft., needs rehab, presence of asbestos/lead paint, most recent use—equip. maint., off-site use only

Bldg. 196

Naval Surface Warfare Center

Carderock Division

West Bethesda Co: Montgomery MD 20817-5700

Landholding Agency: Navy

Property Number: 77200120106

Status: Unutilized

Comment: 456 sq. ft., needs rehab, most recent use—destructor bldg., off-site use only

Bldg. 493

Naval Air Station

Patuxent River Co: MD 20670-

Landholding Agency: Navy

Property Number: 77200120155

Status: Excess

Comment: 5476 sq. ft., presence of asbestos, most recent use—maint/storage, off-site use only

Montana

Bldg. 00405

Fort Harrison

Ft. Harrison Co: Lewis/Clark MT 59636-

Landholding Agency: Army

Property Number: 21200130099

Status: Unutilized

Comment: 3467 sq. ft., most recent use—storage, security limitations

Bldg. T0066

Fort Harrison

Ft. Harrison Co: Lewis/Clark MT 59636-

Landholding Agency: Army

Property Number: 21200130100

Status: Unutilized

Comment: 528 sq. ft., needs rehab, presence of asbestos, security limitations

New Hampshire

Bldg. 128

Portsmouth Naval Shipyard

Portsmouth NH 03804-5000

Landholding Agency: Navy

Property Number: 77199830015

Status: Excess

Comment: 10,900 sq. ft., needs rehab, presence of asbestos, most recent use—storage, off-site use only

Bldg. 185

Portsmouth Naval Shipyard

Portsmouth NH 03804-5000

Landholding Agency: Navy

Property Number: 77199830016

Status: Excess

Comment: 2310 sq. ft., needs rehab, presence of asbestos, most recent use—office, off-site use only

Bldg. 314

Portsmouth Naval Shipyard

Portsmouth NH 03804-5000

Landholding Agency: Navy

Property Number: 77199830017

Status: Excess

Comment: cement block bldg., needs rehab, presence of asbestos, most recent use—storage, off-site use only

Bldg. 336

Portsmouth Naval Shipyard

Portsmouth NH 03804-5000

Landholding Agency: Navy

Property Number: 77199830018

Status: Excess

Comment: metal bldg w/cement block foundation, off-site use only

Bldg. 160

Portsmouth Naval Shipyard

Portsmouth Co: NH 03804-5000

Landholding Agency: Navy

Property Number: 77199910046

Status: Unutilized

Comment: 6080 sq. ft., possible asbestos, most recent use—storage, off-site use only

Bldg. 179

Portsmouth Naval Shipyard

Portsmouth Co: NH 03804-5000

Landholding Agency: Navy

Property Number: 77200020099

Status: Excess

Comment: 1452 sq. ft., needs rehab, presence of asbestos/lead paint, most recent use—quarters, off-site use only

Bldg. 201

Portsmouth Naval Shipyard

Portsmouth Co: NH 03804-5000

Landholding Agency: Navy

Property Number: 77200020100

Status: Excess

Comment: 450 sq. ft., presence of asbestos/lead paint, off-site use only

Bldg. 304

Portsmouth Naval Shipyard

Portsmouth Co: NH 03804-5000

Landholding Agency: Navy

Property Number: 77200020101

Status: Excess

Comment: 1320 sq. ft., presence of asbestos/lead paint, most recent use—garb. house, off-site use only

Bldg. 10

Portsmouth Naval Shipyard

Portsmouth Co: NH 03804-5000

Landholding Agency: Navy

Property Number: 77200030018

Status: Excess

Comment: 12,000 sq. ft., presence of asbestos/lead paint, most recent use—shop facility, off-site use only

Bldg. 239

Portsmouth Naval Shipyard

Portsmouth Co: NH 03804-5000

Landholding Agency: Navy

Property Number: 77200030019

Status: Excess

Comment: 897 sq. ft., presence of asbestos/lead paint, off-site use only

New Jersey

Bldg. 816C

Armament R, D, & Eng. Center

Picatinny Arsenal Co: Morris NJ 07806-5000

Landholding Agency: Army

Property Number: 21200130103

Status: Unutilized

Comment: 144 sq. ft., most recent use—storage, off-site use only

Bldg. D1-A

Naval Weapons Station

Colts Neck Co: NJ 07722-

Landholding Agency: Navy

Property Number: 77199940024

Status: Unutilized

Comment: 1134 sq. ft., presence of lead paint, most recent use—smokehouse/lunchroom, off-site use only

Bldg. HA-1A

Naval Weapons Station

Colts Neck Co: NJ 07722-

Landholding Agency: Navy

Property Number: 77199940025

Status: Unutilized

Comment: 120 sq. ft., most recent use—storage, off-site use only

Bldg. C-16

Naval Weapons Station

Colts Neck Co: Earle NJ 07722-

Landholding Agency: Navy

Property Number: 77200010014

Status: Unutilized

Comment: 34,811 sq. ft., presence of asbestos/lead paint, off-site use only

Bldg. C-25

Naval Weapons Station

Colts Neck Co: Earle NJ 07722-

Landholding Agency: Navy

Property Number: 77200010015

Status: Unutilized

Comment: 4,448 sq. ft., presence of asbestos/lead paint, off-site use only

Bldg. C-40

Naval Weapons Station

Colts Neck Co: Earle NJ 07722-

Landholding Agency: Navy

Property Number: 77200010016

Status: Unutilized

Comment: 6,924 sq. ft., presence of asbestos/lead paint, off-site use only

Bldg. 511

Naval Weapons Station

Colts Neck Co: Earle NJ 07722-

Landholding Agency: Navy

Property Number: 77200010017

Status: Unutilized

Comment: 1,871 sq. ft., presence of asbestos/lead paint, off-site use only

Bldgs. 553, 554, 555

Naval Weapons Station

Colts Neck Co: Earle NJ 07722-

Landholding Agency: Navy

Property Number: 77200010018

Status: Unutilized

Comment: guard towers, off-site use only

Bldg. 557

Naval Weapons Station

Colts Neck Co: Earle NJ 07722-

Landholding Agency: Navy

Property Number: 77200010019

Status: Unutilized

Comment: 9,670 sq. ft., presence of asbestos/lead paint, off-site use only

New Mexico

Bldg. 01714

White Sands Missile Range

White Sands Co: Dona Anna NM 88002-

Landholding Agency: Army

Property Number: 21200130107

Status: Unutilized

Comment: 468 sq. ft., needs rehab, presence of asbestos, off-site use only

Bldg. 20451

White Sand Missile Range

White Sands Co: Dona Anna NM 88002-

Landholding Agency: Army

Property Number: 21200130108

Status: Unutilized

Comment: 186 sq. ft., needs rehab, presence of asbestos, off-site use only

Bldg. 20452

White Sands Missile Range

White Sands Co: Dona Anna NM 88002-

Landholding Agency: Army

Property Number: 21200130109

Status: Unutilized

Comment: 168 sq. ft., needs rehab, presence of asbestos, off-site use only

Bldg. 20453

White Sands Missile Range

White Sands Co: Dona Anna NM 88002-

Landholding Agency: Army

Property Number: 21200130110

Status: Unutilized

Comment: 168 sq. ft., needs rehab, presence of asbestos, off-site use only

Bldg. 20454

White Sands Missile Range

White Sands Co: Dona Anna NM 88002-

Landholding Agency: Army

Property Number: 21200130111

Status: Unutilized

Comment: 151 sq .ft., needs rehab, presence of asbestos, off-site use only

Bldg. 20455

White Sands Missile Range

White Sands Co: Dona Anna NM 88002-

Landholding Agency: Army

Property Number: 21200130112

Status: Unutilized

Comment: 266 sq. ft., needs rehab, presence of asbestos, off-site use only

Bldg. 20457

White Sands Missile Range

White Sands Co: Dona Anna NM 88002-

Landholding Agency: Army

Property Number: 21200130113

Status: Unutilized

Comment: 166 sq. ft., needs rehab, presence of asbestos, off-site use only

Bldg. 21610

White Sands Missile Range

White Sands Co: Dona Anna NM 88002-

Landholding Agency: Army

Property Number: 21200130114

Status: Unutilized

Comment: 6440 sq. ft., needs rehab, presence of asbestos, most recent use—admin., off-site use only

Bldg. 27912

White Sands Missile Range

White Sands Co: Dona Anna NM 88002-

Landholding Agency: Army

Property Number: 21200130115

Status: Unutilized

Comment: 320 sq. ft., needs rehab, presence of asbestos, off-site use only

Bldg. 27920

White Sands Missile Range

White Sands Co: Dona Anna NM 88002-

Landholding Agency: Army

Property Number: 21200130116

Status: Unutilized

Comment: 608 sq. ft., needs rehab, presence of asbestos, off-site use only

Bldg. 28791

White Sands Missile Range

White Sands Co: Dona Anna NM 88002-

Landholding Agency: Army

Property Number: 21200130117

Status: Unutilized

Comment: 324 sq. ft., needs rehab, presence of asbestos, off-site use only

Bldg. 29015

White Sands Missile Range

White Sands Co: Dona Anna NM 88002-

Landholding Agency: Army

Property Number: 21200130118

Status: Unutilized

Comment: 332 sq. ft., needs rehab, presence of asbestos, off-site use only

Bldg. 29016

White Sands Missile Range

White Sands Co: Dona Anna NM 88002-

Landholding Agency: Army

Property Number: 21200130119

Status: Unutilized

Comment: 320 sq. ft., needs rehab, presence of asbestos, off-site use only

Bldg. 30211

White Sands Missile Range

White Sands Co: Dona Anna NM 88002-

Landholding Agency: Army

Property Number: 21200130120

Status: Unutilized

Comment: 324 sq. ft., needs rehab, presence of asbestos, off-site use only

Bldg. 32740

White Sands Missile Range

White Sands Co: Dona Anna NM 88002-

Landholding Agency: Army

Property Number: 21200130121

Status: Unutilized

Comment: 168 sq. ft., needs rehab, presence of asbestos, off-site use only

Bldg. 33137

White Sands Missile Range

White Sands Co: Dona Anna NM 88002-

Landholding Agency: Army

Property Number: 21200130122

Status: Unutilized

Comment: 240 sq. ft., needs rehab, presence of asbestos, most recent use—power plant, off-site use only

Bldg. 33138

White Sands Missile Range

White Sands Co: Dona Anna NM 88002-

Landholding Agency: Army

Property Number: 21200130123

Status: Unutilized

Comment: 216 sq. ft., needs rehab, presence of asbestos, most recent use—dispatch office, off-site use only

Bldg. 33151

White Sands Missile Range

White Sands Co: Dona Anna NM 88002-

Landholding Agency: Army

Property Number: 21200130124

Status: Unutilized

Comment: 384 sq. ft., needs rehab, presence of asbestos, most recent use—power plant, off-site use only

Bldg. 33152

White Sands Missile Range

White Sands Co: Dona Anna NM 88002-

Landholding Agency: Army

Property Number: 21200130125

Status: Unutilized

Comment: 240 sq. ft., needs rehab, presence of asbestos, most recent use—instrument bldg., off-site use only

Bldg. 33170

White Sands Missile Range

White Sands Co: Dona Anna NM 88002-

Landholding Agency: Army

Property Number: 21200130126

Status: Unutilized

Comment: 800 sq. ft., needs rehab, presence of asbestos, most recent use—communications, off-site use only

Bldg. 34049

White Sands Missile Range

White Sands Co: Dona Anna NM 88002-

Landholding Agency: Army

Property Number: 21200130127

Status: Unutilized

Comment: 1256 sq. ft., needs rehab, presence of asbestos, off-site use only

Bldg. 34054

White Sands Missile Range

White Sands Co: Dona Anna NM 88002-

Landholding Agency: Army

Property Number: 21200130128

Status: Unutilized

Comment: 320 sq. ft., needs rehab, presence of asbestos, off-site use only

New York

Bldg. T-181

Fort Drum

Ft. Drum Co: Jefferson NY 13602-

Landholding Agency: Army

Property Number: 21200130129

Status: Unutilized

Comment: 3151 sq. ft., needs rehab, most recent use—housing mnt., off-site use only

Bldg. T-201

Fort Drum

Ft. Drum Co: Jefferson NY 13602-

Landholding Agency: Army

Property Number: 21200130131

Status: Unutilized

Comment: 2305 sq. ft., needs rehab, most recent use—admin., off-site use only

Bldg. T-203

Fort Drum

Ft. Drum Co: Jefferson NY 13602-

Landholding Agency: Army

Property Number: 21200130132

Status: Unutilized

Comment: 2284 sq. ft., needs rehab, most recent use—admin., off-site use only

Bldg. T-252

Fort Drum

Ft. Drum Co: Jefferson NY 13602-

Landholding Agency: Army

Property Number: 21200130133

Status: Unutilized

Comment: 4720 sq. ft., needs rehab, most recent use—housing, off-site use only

Bldgs. T-253, T-256, T-257

Fort Drum

Ft. Drum Co: Jefferson NY 13602-

Landholding Agency: Army

Property Number: 21200130134

Status: Unutilized

Comment: 4720 sq. ft., needs rehab, most recent use—housing, off-site use only

Bldgs. T-271, T-272, T-273

Fort Drum

Ft. Drum Co: Jefferson NY 13602-

Landholding Agency: Army

Property Number: 21200130135

Status: Unutilized

Comment: 4720 sq. ft., needs rehab, most recent use—housing, off-site use only

Bldg. T-274

Fort Drum

Ft. Drum Co: Jefferson NY 13602-

Landholding Agency: Army

Property Number: 21200130136

Status: Unutilized

Comment: 2750 sq. ft., needs rehab, most recent use—BN HQ, off-site use only

Bldgs. T-276, T-277, T-278

Fort Drum

Ft. Drum Co: Jefferson NY 13602-

Landholding Agency: Army

Property Number: 21200130137

Status: Unutilized

Comment: 4720 sq. ft., needs rehab, most recent use—housing, off-site use only

Bldgs. T-744, T-745

Fort Drum

Ft. Drum Co: Jefferson NY 13602-

Landholding Agency: Army

Property Number: 21200130138

Status: Unutilized

Comment: 5310 sq. ft., needs rehab, most recent use—barracks, off-site use only

Bldg. T-1030

Fort Drum

Ft. Drum Co: Jefferson NY 13602-

Landholding Agency: Army

Property Number: 21200130139

Status: Unutilized

Comment: 15606 sq. ft., needs rehab, most recent use—simulator bldg., off-site use only

Bldg. P-2159

Fort Drum

Ft. Drum Co: Jefferson NY 13602-

Landholding Agency: Army

Property Number: 21200130140

Status: Unutilized

Comment: 1948 sq. ft., needs rehab, most recent use—waste/water treatment, off-site use only

Bldg. T-2442

Fort Drum

Ft. Drum Co: Jefferson NY 13602-

Landholding Agency: Army

Property Number: 21200130141

Status: Unutilized

Comment: 4340 sq. ft., needs rehab, most recent use—vet facility, off-site use only

Bldg. T-2443

Fort Drum

Ft. Drum Co: Jefferson NY 13602-

Landholding Agency: Army

Property Number: 21200130142

Status: Unutilized

Comment: 793 sq. ft., needs rehab, most recent use—vet facility, off-site use only

Quarters 372

U.S. Military Academy

Highlands Co: Orange NY 10996-1592

Landholding Agency: Army

Property Number: 21200130143

Status: Unutilized

Comment: 1248 sq. ft., needs repair, presence of asbestos, most recent use—quarters

Quarters 1000

U.S. Military Academy

Highlands Co: Orange NY 10996-1592

Landholding Agency: Army

Property Number: 21200130144

Status: Unutilized

Comment: 2800 sq. ft., needs repair, presence of asbestos, most recent use—quarters

Bldg. 691

U.S. Military Academy

Highlands Co: Orange NY 10996-1592

Landholding Agency: Army

Property Number: 21200130145

Status: Unutilized

Comment: 2561 sq. ft., needs repair, possible asbestos/lead paint, most recent use—storage, off-site use only

Bldg. 709

U.S. Military Academy

Highlands Co: Orange NY 10996-1592

Landholding Agency: Army

Property Number: 21200130146

Status: Unutilized

Comment: 1666 sq. ft., needs repair, possible asbestos/lead paint, most recent use—storage, off-site use only

Bldg. 759

U.S. Military Academy

Highlands Co: Orange NY 10996-1592

Landholding Agency: Army

Property Number: 21200130147

Status: Unutilized

Comment: 11,942 sq. ft., needs repair, possible asbestos/lead paint, most recent use—community center, off-site use only

Bldg. 1280

U.S. Military Academy

Highlands Co: Orange NY 10996-1592

Landholding Agency: Army

Property Number: 21200130148

Status: Unutilized

Comment: 2760 sq. ft., needs repair, presence of asbestos, most recent use—quarters

Bldg. 1664

U.S. Military Academy

Highlands Co: Orange NY 10996-1592

Landholding Agency: Army

Property Number: 21200130149

Status: Unutilized

Comment: 800 sq. ft., needs repair, possible asbestos/lead paint, most recent use—storage, off-site use only

North Carolina

Bldg. C5536

Fort Bragg

Ft. Bragg Co: Cumberland NC 28310-5000

Landholding Agency: Army

Property Number: 21200130150

Status: Unutilized

Comment: 600 sq. ft., single wide trailer w/metal storage shed, needs major repair, presence of asbestos/lead paint, off-site use only

Oklahoma

Bldg. S-4636

Fort Sill

Lawton Co: Comanche OK 73503-5100

Landholding Agency: Army

Property Number: 21200130151

Status: Unutilized

Comment: 1389 sq. ft., possible asbestos/lead paint, most recent use—office, off-site use only

Bldg. S-4749

Fort Sill

Lawton Co: Comanche OK 73503-5100

Landholding Agency: Army

Property Number: 21200130152

Status: Unutilized

Comment: 1438 sq. ft., possible asbestos/lead paint, most recent use—weather station, off-site use only

Pennsylvania

Bldg. 38

Naval Support Activity

Philadelphia Co: PA 19111-5098

Landholding Agency: Navy

Property Number: 77200010020

Status: Unutilized

Comment: 6525 sq. ft., metal butler bldg., needs rehab, presence of asbestos/lead paint, off-site use only

Bldg. 5

Navy Surface Warfare Center

Philadelphia Co: PA 19112-

Landholding Agency: Navy

Property Number: 77200030071

Status: Unutilized

Comment: 286,824 sq. ft., needs rehab, presence of asbestos, most recent use—warehouse, off-site use only

Bldg. 47

Navy Surface Warfare Center

Philadelphia Co: PA 19112-

Landholding Agency: Navy

Property Number: 77200030072

Status: Unutilized

Comment: 16,343 sq. ft., presence of asbestos, most recent use—office, off-site use only

Bldg. 55

Navy Surface Warfare Center

Philadelphia Co: PA 19112-

Landholding Agency: Navy

Property Number: 77200030073

Status: Unutilized

Comment: 5603 sq. ft., needs repair, presence of asbestos, most recent use—store, off-site use only

Bldg. 531

Navy Surface Warfare Center

Philadelphia Co: PA 19112-

Landholding Agency: Navy

Property Number: 77200030074

Status: Unutilized

Comment: 5102 sq ft., presence of asbestos, most recent use—office, off-site use only

Bldg. 996

Navy Surface Warfare Center

Philadelphia Co: PA 19112-

Landholding Agency: Navy

Property Number: 77200030075

Status: Unutilized

Comment: 1800 sq. ft., presence of asbestos, most recent use—storage, off-site use only

Rhode Island

Bldg. 1

Old Naval Hospital

One Riggs Road

Newport Co: RI 02841-

Landholding Agency: Navy

Property Number: 77200010022

Status: Unutilized

Comment: 49,189 sq. ft., presence of asbestos/lead paint, needs major repair, NEPA requirements, boiler plant which provides heat and hot water to bldg. will be shut down

Bldg. K-61

Naval Station

Newport Co: RI 02841-

Landholding Agency: Navy

Property Number: 77200030079

Status: Unutilized

Comment: 32,836 sq. ft., presence of asbestos/lead paint, most recent use—office, off-site use only

Bldg. 685

Naval Station

Middletown Co: Newport RI 02842-

Landholding Agency: Navy

Property Number: 77200030080

Status: Unutilized

Comment: 25,090 sq. ft., needs rehab, presence of asbestos/lead paint, most recent use—navy lodge, off-site use only

Virginia

Bldg. 400

Fort Eustis

Ft. Eustis Co: VA 23604-

Landholding Agency: Army

Property Number: 21200130153

Status: Unutilized

Comment: 128 sq. ft., most recent use—storehouse, off-site use only

Bldgs. 1516, 1517, 1552, 1567

Fort Eustis

Ft. Eustis Co: VA 23604-

Landholding Agency: Army

Property Number: 21200130154

Status: Unutilized

Comment: 2892 & 4720 sq. ft., most recent use—dining/barracks/admin, off-site use only

7 Bldgs.

Fort Eustis

#1612-1617, 1620

Ft. Eustis Co: VA 23604-

Landholding Agency: Army

Property Number: 21200130155

Status: Unutilized

Comment: plant utility bldgs., storage, treatment facilities

Bldg. 1559

Fort Eustis

Ft. Eustis Co: VA 23604-

Landholding Agency: Army

Property Number: 21200130156

Status: Unutilized

Comment: 2892 sq. ft., most recent use—storage, off-site use only

Bldg. P00151

Fort A.P. Hill

Bowling Green Co: Caroline VA 22427-

Landholding Agency: Army

Property Number: 21200130157

Status: Unutilized

Comment: 1098 sq. ft., most recent use—housing maint., off-site use only

Bldg. TT0135

Fort A.P. Hill

Bowling Green Co: Caroline VA 22427-

Landholding Agency: Army

Property Number: 21200130158

Status: Unutilized

Comment: 2144 sq. ft., needs major rehab, most recent use—thrift shop, off-site use only

Bldgs. SP-79/80/81/79AQ

Naval Station

Norfolk Co: VA 23511-

Landholding Agency: Navy

Property Number: 77200110034

Status: Excess

Comment: most recent use—residential & detachable garage, high maintenance, presence of asbestos, off-site use only

Structure SP-129

Naval Station

Norfolk Co: VA 23511-

Landholding Agency: Navy

Property Number: 77200110136

Status: Excess

Comment: 3564 sq. ft., presence of asbestos/lead, most recent use—office, off-site use only

Land (by State)

Virginia

Land

Marine Corps Base

Quantico Co: VA 22134-

Landholding Agency: Navy

Property Number: 77200040034

Status: Unutilized

Comment: 4900 sq. ft. open space

Suitable/Unavailable Properties

Buildings (by State)

Puerto Rico

Bldgs. 501 & 502

U.S. Naval Radio Transmitter Facility

State Road No. 2

Juana Diaz PR 00795-

Landholding Agency: Navy

Property Number: 77199530007

Status: Underutilized

Comment: Reinforced concrete structures, limited access, needs rehab, most recent use—transmitter and power house

Virginia

Naval Medical Clinic

6500 Hampton Blvd.

Norfolk Co: Norfolk VA 23508-

Landholding Agency: Navy

Property Number: 77199010109

Status: Unutilized

Comment: 3665 sq ft., 1 story, possible asbestos, most recent use-laundry.

Land (by State)

Virginia

Naval Base

Norfolk Co: Norfolk VA 23508-

Location: Northeast corner of base, near Willoughby housing area.

Landholding Agency: Navy

Property Number: 77199010156

Status: Unutilized

Comment: 60 acres; most recent use—sandpit; secured area with alternate access.

2.6 acres

Naval Station

Norfolk Co: VA 23508-1273

Landholding Agency: Navy

Property Number: 77200120131

Status: Underutilized

Comment: most recent use—brush/debris storage

1.15 acres

Naval Amphibious Base Little Creek

Norfolk Co: VA 23508-

Landholding Agency: Navy

Property Number: 77200120132

Status: Unutilized

Comment: most recent use—open space

Suitable/To Be Excessed

Buildings (by State)

Puerto Rico

Bldg. 561

Former Ramey AFB

Aguadilla PR 00604-

Landholding Agency: Navy

Property Number: 77199630001

Status: Unutilized

Comment: 102666 sq. ft. bldg. on 5.006 acres, most recent use—manufacturing, office and freight distribution center, presence of asbestos

Unsuitable Properties

Buildings (by State)

Arizona

Bldg. 958

Marine Corps Air Station

Yuma Co: AZ 85369-

Landholding Agency: Navy

Property Number: 77200040001

Status: Excess

Reason: Extensive deterioration

Bldg. 1216

Marine Corps Air Station

Yuma Co: AZ 85369-

Landholding Agency: Navy

Property Number: 77200040002

Status: Excess

Reason: Extensive deterioration

Bldg. 676

Marine Corps Air Station

Yuma Co: AZ 85369-

Landholding Agency: Navy

Property Number: 77200040003

Status: Excess

Reason: Extensive deterioration

Bldg. 321

Marine Corps Air Station

Yuma Co: AZ 85369-

Landholding Agency: Navy

Property Number: 77200110001

Status: Excess

Reason: Extensive deterioration

Bldg. 322

Marine Corps Air Station

Yuma Co: AZ 85369-

Landholding Agency: Navy

Property Number: 77200110002

Status: Excess

Reason: Extensive deterioration

Bldg. 331

Marine Corps Air Station

Yuma Co: AZ 85369-

Landholding Agency: Navy

Property Number: 77200110003

Status: Excess

Reason: Extensive deterioration

Bldg. 332

Marine Corps Air Station

Yuma Co: AZ 85369-

Landholding Agency: Navy

Property Number: 77200110004

Status: Excess

Reason: Extensive deterioration

California

Bldg. 210

Naval Station, San Diego

San Diego CA 92136-

Landholding Agency: Navy

Property Number: 77199830001

Status: Excess

Reason: Extensive deterioration

Bldg. 444

Naval Station

San Diego CA 92136-5294

Landholding Agency: Navy

Property Number: 77199830122

Status: Excess

Reason: Extensive deterioration

Bldg. 209

Naval Station, San Diego

San Diego CA 92136-5065

Landholding Agency: Navy

Property Number: 77199840001

Status: Excess

Reason: Extensive deterioration

Bldgs. 20106, 20195

Naval Air Weapons Station

China Lake Co: CA 93555-

Landholding Agency: Navy

Property Number: 77199930001

Status: Excess

Reasons: Secured Area Extensive deterioration

Bldgs. 40, 62

Naval Air Station, North Island

Imperial Beach Co: CA 91932-

Landholding Agency: Navy

Property Number: 77199930024

Status: Excess

Reason: Extensive deterioration

Bldg. 5UT4

Marine Corps Recruit Depot

San Diego Co: CA 92140-

Landholding Agency: Navy

Property Number: 77199930081

Status: Unutilized

Reason: Extensive deterioration

Bldg. 5US4

Marine Corps Recruit Depot

San Diego Co: CA 92140-

Landholding Agency: Navy

Property Number: 77199930082

Status: Unutilized

Reason: Extensive deterioration

Bldg. 127

Marine Corps Recruit Depot

San Diego Co: CA 92140-

Landholding Agency: Navy

Property Number: 77199930083

Status: Unutilized

Reason: Extensive deterioration

Bldg. 5A6

Marine Corps Recruit Depot

San Diego Co: CA 92140-

Landholding Agency Navy

Property Number: 77199930084

Status: Unutilized

Reason: Extensive deterioration

Bldg. 5A7

Marine Corps Recruit Depot

San Diego Co: CA 92140-

Landholding Agency: Navy

Property Number: 77199930085

Status: Unutilized

Reason: Extensive deterioration

Bldg. 5A8

Marine Corps Recruit Depot

San Diego Co: CA 92140-

Landholding Agency: Navy

Property Number: 77199930086

Status: Unutilized

Reason: Extensive deterioration

Bldg. 5A9

Marine Corps Recruit Depot

San Diego Co: CA 92140-

Landholding Agency: Navy

Property Number: 77199930087

Status: Unutilized

Reason: Extensive deterioration

Bldg. 5B6

Marine Corps Recruit Depot

San Diego Co: CA 92140-

Landholding Agency: Navy

Property Number: 77199930088

Status: Unutilized

Reason: Extensive deterioration

Bldg. 5B7

Marine Corps Recruit Depot

San Diego Co: CA 92140-

Landholding Agency: Navy

Property Number: 77199930089

Status: Unutilized

Reason: Extensive deterioration

Bldg. 5B8

Marine Corps Recruit Depot

San Diego Co: CA 92140-

Landholding Agency: Navy

Property Number: 77199930090

Status: Unutilized

Reason: Extensive deterioration

Bldg. 5B9

Marine Corps Recruit Depot

San Diego Co: CA 92140-

Landholding Agency: Navy

Property Number: 77199930091

Status: Unutilized

Reason: Extensive deterioration

Bldg. 5C6

Marine Corps Recruit Depot

San Diego Co: CA 92140-

Landholding Agency: Navy

Property Number: 77199930092

Status: Unutilized

Reason: Extensive deterioration

Bldg. 5C7

Marine Corps Recruit Depot

San Diego Co: CA 92140-

Landholding Agency: Navy

Property Number: 77199930093

Status: Unutilized

Reason: Extensive deterioration

Bldg. 5C8

Marine Corps Recruit Depot

San Diego Co: CA 92140-

Landholding Agency: Navy

Property Number: 77199930094

Status: Unutilized

Reason: Extensive deterioration

Bldg. 5C9

Marine Corps Recruit Depot

San Diego Co: CA 92140-

Landholding Agency: Navy

Property Number: 77199930095

Status: Unutilized

Reason: Extensive deterioration

Bldg. 5D1

Marine Corps Recruit Depot

San Diego Co: CA 92140-

Landholding Agency: Navy

Property Number: 77199930096

Status: Unutilized

Reason: Extensive deterioration

Bldg. 5D2

Marine Corps Recruit Depot

San Diego Co: CA 92140-

Landholding Agency: Navy

Property Number: 77199930097

Status: Unutilized

Reason: Extensive deterioration

Bldg. 5D3

Marine Corps Recruit Depot

San Diego Co: CA 92140-

Landholding Agency: Navy

Property Number: 77199930098

Status: Unutilized

Reason: Extensive deterioration

Bldg. 5D4

Marine Corps Recruit Depot

San Diego Co: CA 92140-

Landholding Agency: Navy

Property Number: 77199930099

Status: Unutilized

Reason: Extensive deterioration

Bldg. 5D5

Marine Corps Recruit Depot

San Diego Co: CA 92140-

Landholding Agency: Navy

Property Number: 77199930100

Status: Unutilized

Reason: Extensive deterioration

Bldg. 206

Naval Weapons Station Seal Beach

Seal Beach Co: CA 90740-5000

Landholding Agency: Navy

Property Number: 77199930105

Status: Unutilized

Reason: Extensive deterioration

Bldg. 432

Naval Weapons Station Seal Beach

Seal Beach Co: CA 90740-5000

Landholding Agency: Navy

Property Number: 77199930106

Status: Unutilized

Reason: Extensive deterioration

Bldg. 433

Naval Weapons Station Seal Beach

Seal Beach Co: CA 90740-5000

Landholding Agency: Navy

Property Number: 77199930107

Status: Unutilized

Reason: Extensive deterioration

Bldg. 435

Naval Weapons Station Seal Beach

Seal Beach Co: CA 90740-5000

Landholding Agency: Navy

Property Number: 77199930108

Status: Unutilized

Reason: Extensive deterioration

Bldg. 456

Naval Weapons Station Seal Beach

Seal Beach Co: CA 90740-5000

Landholding Agency: Navy

Property Number: 77199930109

Status: Unutilized

Reason: Extensive deterioration

Bldg. 921

Naval Weapons Station Seal Beach

Seal Beach Co: CA 90740-5000

Landholding Agency: Navy

Property Number: 77199930110

Status: Unutilized

Reason: Extensive deterioration

Bldg. 201

Naval Weapons Station

Fallbrook Co: CA 92028-3187

Landholding Agency: Navy

Property Number: 77199940002

Status: Unutilized

Reason: Extensive deterioration

Bldg. 205

Naval Weapons Station

Fallbrook Co: CA 92028-3187

Landholding Agency: Navy

Property Number: 77199940003

Status: Unutilized

Reason: Extensive deterioration

Bldg. 227

Naval Weapons Station

Fallbrook Co: CA 92028-3187

Landholding Agency: Navy

Property Number: 77199940004

Status: Unutilized

Reason: Extensive deterioration

Bldg. 230

Naval Weapons Station

Fallbrook Co: CA 92028-3187

Landholding Agency: Navy

Property Number: 77199940005

Status: Unutilized

Reason: Extensive deterioration

Bldg. 232

Naval Weapons Station

Fallbrook Co: CA 92028-3187

Landholding Agency: Navy

Property Number: 77199940006

Status: Unutilized

Reason: Extensive deterioration

Bldg. 337

Naval Weapons Station

Fallbrook Co: CA 92028-3187

Landholding Agency: Navy

Property Number: 77199940007

Status: Unutilized

Reason: Extensive deterioration

Bldg. 338

Naval Weapons Station

Fallbrook Co: CA 92028-3187

Landholding Agency: Navy

Property Number: 77199940008

Status: Unutilized

Reason: Extensive deterioration

Bldg. 339

Naval Weapons Station

Fallbrook Co: CA 92028-3187

Landholding Agency: Navy

Property Number: 77199940009

Status: Unutilized

Reason: Extensive deterioration

Bldg. 349

Naval Weapons Station

Fallbrook Co: CA 92028-3187

Landholding Agency: Navy

Property Number: 77199940010

Status: Unutilized

Reason: Extensive deterioration

Bldg. 362

Naval Weapons Station

Fallbrook Co: CA 92028-3187

Landholding Agency: Navy

Property Number: 77199940011

Status: Unutilized

Reason: Extensive deterioration

Bldg. 363

Naval Weapons Station

Fallbrook Co: CA 92028-3187

Landholding Agency: Navy

Property Number: 77199940012

Status: Unutilized

Reason: Extensive deterioration

Bldg. 410

Naval Weapons Station

Fallbrook Co: CA 92028-3187

Landholding Agency: Navy

Property Number: 77199940013

Status: Unutilized

Reason: Extensive deterioration

Bldg. 438

Naval Weapons Station

Fallbrook Co: CA 92028-3187

Landholding Agency: Navy

Property Number: 77199940014

Status: Unutilized

Reason: Extensive deterioration

Bldg. Q100

Naval Amphibious Base

Coronado Co: CA 92118-

Landholding Agency: Navy

Property Number: 77199940067

Status: Excess

Reason: Extensive deterioration

Bldg. Q102

Naval Amphibious Base

Coronado Co: CA 92118-

Landholding Agency: Navy

Property Number: 77199940068

Status: Excess

Reason: Extensive deterioration

Bldg. 106

Naval Amphibious Base

Coronado Co: CA 92118-

Landholding Agency: Navy

Property Number: 77199940069

Status: Excess

Reason: Extensive deterioration

Bldg. 111

Naval Amphibious Base

Coronado Co: CA 92118-

Landholding Agency: Navy

Property Number: 77199940070

Status: Excess

Reason: Extensive deterioration

Bldg. 112

Naval Amphibious Base

Coronado Co: CA 92118-

Landholding Agency: Navy

Property Number: 77199940071

Status: Excess

Reason: Extensive deterioration

Bldg. 613

NAS, North Island

Coronado Co: CA 92118-

Landholding Agency: Navy

Property Number: 77199940072

Status: Excess

Reason: Extensive deterioration

Bldg. 55

Naval Amphibious Base

Imperial Beach Co: CA 92118-

Landholding Agency: Navy

Property Number: 77199940073

Status: Excess

Reason: Extensive deterioration

Bldg. 154

Naval Air Station

North Island Co: CA 92132-

Landholding Agency: Navy

Property Number: 77200010037

Status: Excess

Reason: Extensive deterioration

OT68

Space & Navy Warfare

Systems Center

San Diego Co: CA 92152-5001

Landholding Agency: Navy

Property Number: 77200010076

Status: Unutilized

Reason: Floodway

Bldg. 1234

Marine Corps Base

Camp Pendleton Co: CA 92055-

Landholding Agency: Navy

Property Number: 77200010077

Status: Excess

Reason: Extensive deterioration

Bldg. 1439

Marine Corps Base

Camp Pendleton Co: CA 92055-

Landholding Agency: Navy

Property Number: 77200010078

Status: Excess

Reason: Extensive deterioration

Bldg. 1443

Marine Corps Base

Camp Pendleton Co: CA 92055-

Landholding Agency: Navy

Property Number: 77200010079

Status: Excess

Reason: Extensive deterioration

Bldg. 2231

Marine Corps Base

Camp Pendleton Co: CA 92055-

Landholding Agency: Navy

Property Number: 77200010080

Status: Excess

Reason: Extensive deterioration

Bldg. 2232

Marine Corps Base

Camp Pendleton Co: CA 92055-

Landholding Agency: Navy

Property Number: 77200010081

Status: Excess

Reason: Extensive deterioration

Bldg. 2582

Marine Corps Base

Camp Pendleton Co: CA 92055-

Landholding Agency: Navy

Property Number: 77200010082

Status: Excess

Reason: Extensive deterioration

Bldg. 2583

Marine Corps Base

Camp Pendleton Co: CA 92055-

Landholding Agency: Navy

Property Number: 77200010083

Status: Excess

Reason: Extensive deterioration

Bldg. 21544

Marine Corps Base

Camp Pendleton Co: CA 92055-

Landholding Agency: Navy

Property Number: 77200010084

Status: Excess

Reason: Extensive deterioration

Bldg. 21549

Marine Corps Base

Camp Pendleton Co: CA 92055-

Landholding Agency: Navy

Property Number: 77200010085

Status: Excess

Reason: Extensive deterioration

Bldg. 25131

Marine Corps Base

Camp Pendleton Co: CA 92055-

Landholding Agency: Navy

Property Number: 77200010086

Status: Excess

Reason: Extensive deterioration

Bldg. 32927

Marine Corps Base

Camp Pendleton Co: CA 92055-

Landholding Agency: Navy

Property Number: 77200010087

Status: Excess

Reason: Extensive deterioration

Bldg. 130167

Marine Corps Base

Camp Pendleton Co: CA 92055-

Landholding Agency: Navy

Property Number: 77200010088

Status: Excess

Reason: Extensive deterioration

Bldg. 130175

Marine Corps Base

Camp Pendleton Co: CA 92055-

Landholding Agency: Navy

Property Number: 77200010089

Status: Excess

Reason: Extensive deterioration

Bldg. 201076

Marine Corps Base

Camp Pendleton Co: CA 92055-

Landholding Agency: Navy

Property Number: 77200010090

Status: Excess

Reason: Extensive deterioration

Bldg. 201487

Marine Corps Base

Camp Pendleton Co: CA 92055-

Landholding Agency: Navy

Property Number: 77200010091

Status: Excess

Reason: Extensive deterioration

Bldg. 1684

Marine Corps Base

Camp Pendleton Co: CA 92055-

Landholding Agency: Navy

Property Number: 77200010092

Status: Excess

Reason: Extensive deterioration

Bldg. 16146

Marine Corps Base

Camp Pendleton Co: CA 92055-

Landholding Agency: Navy

Property Number: 77200010093

Status: Excess

Reason: Extensive deterioration

Bldg. 43332

Marine Corps Base

Camp Pendleton Co: CA 92055-

Landholding Agency: Navy

Property Number: 77200010094

Status: Excess

Reason: Extensive deterioration

Bldg. 43333

Marine Corps Base

Camp Pendleton Co: CA 92055-

Landholding Agency: Navy

Property Number: 77200010095

Status: Excess

Reason: Extensive deterioration

Bldg. 43334

Marine Corps Base

Camp Pendleton Co: CA 92055-

Landholding Agency: Navy

Property Number: 77200010096

Status: Excess

Reason: Extensive deterioration

Bldg. 43335

Marine Corps Base

Camp Pendleton Co: CA 92055-

Landholding Agency: Navy

Property Number: 77200010097

Status: Excess

Reason: Extensive deterioration

Bldg. 43336

Marine Corps Base

Camp Pendleton Co: CA 92055-

Landholding Agency: Navy

Property Number: 77200010098

Status: Excess

Reason: Extensive deterioration

Bldg. 43337

Marine Corps Base

Camp Pendleton Co: CA 92055-

Landholding Agency: Navy

Property Number: 77200010099

Status: Excess

Reason: Extensive deterioration

Bldg. 52651

Marine Corps Base

Camp Pendleton Co: CA 92055-

Landholding Agency: Navy

Property Number: 77200010100

Status: Excess

Reason: Extensive deterioration

Bldg. 17A

Marine Corps Logistics Base

Barstow Co: San Bernardino CA 92311-

Landholding Agency: Navy

Property Number: 77200020001

Status: Unutilized

Reasons: Secured Area, Extensive deterioration

Bldg. 62327

Marine Corps Base

Camp Pendleton Co: CA 92055-

Landholding Agency: Navy

Property Number: 77200020034

Status: Excess

Reason: Extensive deterioration

Bldg. 3314

Marine Corps Air Station

Miramar Co: CA 92145-

Landholding Agency: Navy

Property Number: 77200020035

Status: Excess

Reason: Extensive deterioration

Bldgs. 5157, 5158

Construction Battalion Center

Port Hueneme Co: Ventura CA 93043-4301

Landholding Agency: Navy

Property Number: 77200020045

Status: Unutilized

Reason: Secured Area

Facility 13181

Camp Pendleton

Camp Pendleton Co: CA 92055-

Landholding Agency: Navy

Property Number: 77200020046

Status: Unutilized

Reasons: Secured Area Extensive deterioration

Facility 14220

Camp Pendleton

Camp Pendleton Co: CA 92055-

Landholding Agency: Navy

Property Number: 77200020047

Status: Unutilized

Reasons: Secured Area Extensive deterioration

Facility 24151

Camp Pendleton

Camp Pendleton Co: CA 92055-

Landholding Agency: Navy

Property Number: 77200020048

Status: Unutilized

Reasons: Secured Area Extensive deterioration

Bldg. 22074

Marine Corps Base

Camp Pendleton Co: CA 92055-

Landholding Agency: Navy

Property Number: 77200020092

Status: Unutilized

Reason: Extensive deterioration

Bldg. 62324

Marine Corps Base

Camp Pendleton Co: CA 92055-

Landholding Agency: Navy

Property Number: 77200020093

Status: Unutilized

Reason: Extensive deterioration

Bldg. H-62

Marine Corps Base

Camp Pendleton Co: CA 92055-

Landholding Agency: Navy

Property Number: 77200020094

Status: Unutilized

Reason: Extensive deterioration

Bldg. 1442

Marine Corps Base

Camp Pendleton Co: CA 92055-

Landholding Agency: Navy

Property Number: 77200020106

Status: Unutilized

Reason: Extensive deterioration

Bldg. 1651

Marine Corps Base

Camp Pendleton Co: CA 92055-

Landholding Agency: Navy

Property Number: 77200020107

Status: Unutilized

Reason: Extensive deterioration

Bldg. 13162

Marine Corps Base

Pendleton Co: CA 92055-

Landholding Agency: Navy

Property Number: 77200020108

Status: Unutilized

Reason: Extensive deterioration

Bldg. 14100

Marine Corps Base

Camp Pendleton Co: CA 92055-

Landholding Agency: Navy

Property Number: 77200020109

Status: Unutilized

Reason: Extensive deterioration

Bldg. 25131

Marine Corps Base

Camp Pendleton Co: CA 92055-

Landholding Agency: Navy

Property Number: 77200020110

Status: Unutilized

Reason: Extensive deterioration

Bldg. 23025

Marine Corps Air Station

Miramar Co: CA 92132-

Landholding Agency: Navy

Property Number: 77200030001

Status: Unutilized

Reason: Secured Area

Bldg. 23027

Marine Corps Air Station

Miramar Co: CA 92132-

Landholding Agency: Navy

Property Number: 77200030002

Status: Unutilized

Reason: Secured Area

Bldg. 731

Naval Air Station

Point Mugu

Oxnard Co: Ventura CA 93043-4301

Landholding Agency: Navy

Property Number: 77200030003

Status: Excess

Reason: Extensive deterioration

Bldg. 731A

Naval Air Station

Point Mugu

Oxnard Co: Ventura CA 93043-4301

Landholding Agency: Navy

Property Number: 77200030004

Status: Excess

Reason: Extensive deterioration

Bldg. 865

Naval Air Station

Point Mugu

Oxnard Co: Ventura CA 93043-4301

Landholding Agency: Navy

Property Number: 77200030005

Status: Excess

Reason: Extensive deterioration

Bldg. 868

Naval Air Station

Point Mugu

Oxnard Co: Ventura CA 93043-4301

Landholding Agency: Navy

Property Number: 77200030006

Status: Excess

Reason: Extensive deterioration

Bldg. 474

Naval Const. Battalion Ctr

Port Hueneme

Oxnard Co: Ventura CA 93043-4301

Landholding Agency: Navy

Property Number: 77200030007

Status: Excess

Reason: Extensive deterioration

Bldg. 5021

Naval Const. Battalion Ctr

Port Hueneme

Oxnard Co: Ventura CA 93043-4301

Landholding Agency: Navy

Property Number: 77200030008

Status: Excess

Reason: Extensive deterioration

Bldg. 5022

Naval Const. Battalion Ctr

Port Hueneme

Oxnard Co: Ventura CA 93043-4301

Landholding Agency: Navy

Property Number: 77200030009

Status: Excess

Reason: Extensive deterioration

Bldg. 5025

Naval Const. Battalion Ctr

Port Hueneme

Oxnard Co: Ventura CA 93043-4301

Landholding Agency: Navy

Property Number: 77200030010

Status: Excess

Reason: Extensive deterioration

Bldg. 5113

Naval Const. Battalion Ctr

Port Hueneme

Oxnard Co: Ventura CA 93043-

Landholding Agency: Navy

Property Number: 77200030011

Status: Excess

Reason: Extensive deterioration

Bldg. 5114

Naval Const. Battalion Ctr

Port Hueneme

Oxnard Co: Ventura CA 93043-4301

Landholding Agency: Navy

Property Number: 77200030012

Status: Excess

Reason: Extensive deterioration

Bldgs. 82 & 84

Naval Air Station

Point Mugu

Oxnard Co: Ventura CA 93043-4301

Landholding Agency: Navy

Property Number: 77200030013

Status: Excess

Reason: Extensive deterioration

Bldg. 6-1

Naval Air Station

Point Mugu

Oxnard Co: Ventura CA 93043-4301

Landholding Agency: Navy

Property Number: 77200030014

Status: Excess

Reason: Extensive deterioration

Bldg. 479

Naval Construction Battalion Ctr.

Port Hueneme

Oxnard Co: Ventura CA 93043-4301

Landholding Agency: Navy

Property Number: 77200030015

Status: Excess

Reason: Extensive deterioration

Bldg. 1131

Marine Corps Base

Camp Pendleton Co: CA 92055-

Landholding Agency: Navy

Property Number: 77200030025

Status: Excess

Reason: Extensive deterioration

Bldg. 1132

Marine Corps Base

Camp Pendleton Co: CA 92055-

Landholding Agency: Navy

Property Number: 77200030026

Status: Excess

Reason: Extensive deterioration

Bldg. 1141

Marine Corps Base

Camp Pendleton Co: CA 92055-

Landholding Agency: Navy

Property Number: 77200030027

Status: Excess

Reason: Extensive deterioration

Bldg. 1145

Marine Corps Base

Camp Pendleton Co: CA 92055-

Landholding Agency: Navy

Property Number: 77200030028

Status: Excess

Reason: Extensive deterioration

Bldg. 1256

Marine Corps Base

Camp Pendleton Co: CA 92055-

Landholding Agency: Navy

Property Number: 77200030029

Status: Excess

Reason: Extensive deterioration

Bldg. 1362

Marine Corps Base

Camp Pendleton Co: CA 92055-

Landholding Agency: Navy

Property Number: 77200030030

Status: Excess

Reason: Extensive deterioration

Bldg. 1363

Marine Corps Base

Camp Pendleton Co: CA 92055-

Landholding Agency: Navy

Property Number: 77200030031

Status: Excess

Reason: Extensive deterioration

Bldg. 1622

Marine Corps Base

Camp Pendleton Co: CA 92055-

Landholding Agency: Navy

Property Number: 77200030032

Status: Excess

Reason: Extensive deterioration

Bldg. 1623

Marine Corps Base

Camp Pendleton Co: CA 92055-

Landholding Agency: Navy

Property Number: 77200030033

Status: Excess

Reason: Extensive deterioration

Bldg. 13115

Marine Corps Base

Camp Pendleton Co: CA 92055-

Landholding Agency: Navy

Property Number: 77200030034

Status: Excess

Reason: Extensive deterioration

Bldg. 13125

Marine Corps Base

Camp Pendleton Co: CA 92055-

Landholding Agency: Navy

Property Number: 77200030035

Status: Excess

Reason: Extensive deterioration

Bldg. 13142

Marine Corps Base

Camp Pendleton Co: CA 92055-

Landholding Agency: Navy

Property Number: 77200030036

Status: Excess

Reason: Extensive deterioration

Bldg. 16134

Marine Corps Base

Camp Pendleton Co: CA 92055-

Landholding Agency: Navy

Property Number: 77200030037

Status: Excess

Reason: Extensive deterioration

Bldg. 16135

Marine Corps Base

Camp Pendleton Co: CA 92055-

Landholding Agency: Navy

Property Number: 77200030038

Status: Excess

Reason: Extensive deterioration

Bldg. 16136

Marine Corps Base

Camp Pendleton Co: CA 92055-

Landholding Agency: Navy

Property Number: 77200030039

Status: Excess

Reason: Extensive deterioration

Bldg. 16137

Marine Corps Base

Camp Pendleton Co: CA 92055-

Landholding Agency: Navy

Property Number: 77200030040

Status: Excess

Reason: Extensive deterioration

Bldg. 43432

Marine Corps Base

Camp Pendleton Co: CA 92055-

Landholding Agency: Navy

Property Number: 77200030041

Status: Excess

Reason: Extensive deterioration

Bldg. 62408

Marine Corps Base

Camp Pendleton Co: CA 92055-

Landholding Agency: Navy

Property Number: 77200030042

Status: Excess

Reason: Extensive deterioration

Bldg. 801

Naval Air Station

Point Mugu

Oxnard Co: Ventura CA 93042-5001

Landholding Agency: Navy

Property Number: 77200030043

Status: Unutilized

Reason: Extensive deterioration

Bldg. 41

Naval Const. Battalion Ctr

Port Hueneme Co: Ventura CA 93043-4301

Landholding Agency: Navy

Property Number: 77200030044

Status: Unutilized

Reason: Extensive deterioration

Bldg. 103

Naval Const. Battalion Ctr

Port Hueneme Co: Ventura CA 93043-4301

Landholding Agency: Navy

Property Number: 77200030045

Status: Unutilized

Reason: Extensive deterioration

Bldg. 259

Naval Const. Battalion Ctr

Port Hueneme Co: Ventura CA 93043-4301

Landholding Agency: Navy

Property Number: 77200030046

Status: Unutilized

Reason: Extensive deterioration

Bldg. 260

Naval Const. Battalion Ctr

Port Hueneme Co: CA 93043-4301

Landholding Agency: Navy

Property Number: 77200030047

Status: Unutilized

Reason: Extensive deterioration

Bldg. 274

Naval Const. Battalion Ctr

Port Hueneme Co: Ventura CA 93043-4301

Landholding Agency: Navy

Property Number: 77200030048

Status: Unutilized

Reason: Extensive deterioration

Bldg. 462

Naval Const. Battalion Ctr

Port Hueneme Co: Ventura CA 93043-4301

Landholding Agency: Navy

Property Number: 77200030049

Status: Unutilized

Reason: Extensive deterioration

Bldg. 488

Naval Const. Battalion Ctr

Port Hueneme Co: Ventura CA 93043-4301

Landholding Agency: Navy

Property Number: 77200030050

Status: Unutilized

Reason: Extensive deterioration

Bldg. 1150

Naval Const. Battalion Ctr

Port Hueneme Co: Ventura CA 93043-4301

Landholding Agency: Navy

Property Number: 77200030051

Status: Unutilized

Reason: Extensive deterioration

Bldg. 1156

Naval Const. Battalion Ctr

Port Hueneme Co: Ventura CA 93043-4301

Landholding Agency: Navy

Property Number: 77200030052

Status: Unutilized

Reason: Extensive deterioration

Bldg. 1275

Naval Const. Battalion Ctr

Port Hueneme Co: Ventura CA 93043-4301

Landholding Agency: Navy

Property Number: 77200030053

Status: Unutilized

Reason: Extensive deterioration

Bldg. 1321

Naval Const. Battalion Ctr

Port Hueneme Co: Ventura CA 93043-4301

Landholding Agency: Navy

Property Number: 77200030054

Status: Unutilized

Reason: Extensive deterioration

Bldg. 21091

Marine Corps Air Station

Miramar Co: San Diego CA 92132-

Landholding Agency: Navy

Property Number: 77200030058

Status: Unutilized

Reason: Extensive deterioration

Bldg. 21127

Marine Corps Air Station

Miramar Co: San Diego CA 92132-

Landholding Agency: Navy

Property Number: 77200030059

Status: Unutilized

Reason: Extensive deterioration

Bldg. 9919

Marine Corps Air Station

Miramar Co: San Diego CA 92132-

Landholding Agency: Navy

Property Number: 77200030060

Status: Unutilized

Reason: Extensive deterioration

Bldg. 9920

Marine Corps Air Station

Miramar Co: San Diego CA 92132-

Landholding Agency: Navy

Property Number: 77200030061

Status: Unutilized

Reason: Extensive deterioration

Bldg. OT33

Old Town Campus

Naval Space & Warfare Systems

San Diego Co: CA 92132-

Landholding Agency: Navy

Property Number: 77200040004

Status: Unutilized

Reason: Extensive deterioration

Bldg. OT-5

Old Town Campus

Naval Space & Warfare Systems

San Diego Co: CA 92132-

Landholding Agency: Navy

Property Number: 77200040005

Status: Unutilized

Reason: Extensive deterioration

Bldg. 1393

Marine Corps Base

Camp Pendleton Co: CA 92055-

Landholding Agency: Navy

Property Number: 77200040024

Status: Excess

Reason: Extensive deterioration

Bldg. 25155

Marine Corps Base

Camp Pendleton Co: CA 92055-

Landholding Agency: Navy

Property Number: 77200040025

Status: Excess

Reason: Extensive deterioration

Bldg. 25158

Marine Corps Base

Camp Pendleton Co: CA 92055-

Landholding Agency: Navy

Property Number: 77200040026

Status: Excess

Reason: Extensive deterioration

Bldg. 25159

Marine Corps Base

Camp Pendleton Co: CA 92055-

Landholding Agency: Navy

Property Number: 77200040027

Status: Excess

Reason: Extensive deterioration

Bldg. 27

Naval Postgraduate School

Fleet Numerical Meteor. & Ocean. Ctr.

Monterey Co: CA 93943-

Landholding Agency: Navy

Property Number: 77200110005

Status: Excess

Reason: Secured Area

Bldg. 50

Naval Postgraduate School

Fleet Numerical Meteor. & Ocean. Ctr.

Monterey Co: CA 93943-

Landholding Agency: Navy

Property Number: 77200110006

Status: Excess

Reason: Secured Area

Bldg. 1468

Naval Base Ventura

on Parcel 1

Port Hueneme Co: Ventura CA 93042-5000

Landholding Agency: Navy

Property Number: 77200110013

Status: Unutilized

Reason: Secured Area

Bldg. 1469

Naval Base Ventura

on Parcel 1

Port Hueneme Co: Ventura CA 93042-5000

Landholding Agency: Navy

Property Number: 77200110014

Status: Unutilized

Reason: Secured Area

Bldg. 12041

Naval Air Weapons Station

China Lake Co: CA 93555-6100

Landholding Agency: Navy

Property Number: 77200110065

Status: Excess

Reason: Extensive deterioration

Bldg. 12052

Naval Air Weapons Station

China Lake Co: CA 93555-6100

Landholding Agency: Navy

Property Number: 77200110066

Status: Excess

Reason: Extensive deterioration

Bldg. 16066

Naval Air Weapons Station

China Lake Co: CA 93555-6100

Landholding Agency: Navy

Property Number: 77200110067

Status: Excess

Reason: Extensive deterioration

Bldg. 16074

Naval Air Weapons Station

China Lake Co: CA 93555-6100

Landholding Agency: Navy

Property Number: 77200110068

Status: Excess

Reason: Extensive deterioration

Bldg. 16085

Naval Air Weapons Station

China Lake Co: CA 93555-6100

Landholding Agency: Navy

Property Number: 77200110069

Status: Excess

Reason: Extensive deterioration

Bldg. 16086

Naval Air Weapons Station

China Lake Co: CA 93555-6100

Landholding Agency: Navy

Property Number: 77200110070

Status: Excess

Reason: Extensive deterioration

Bldg. 16100

Naval Air Weapons Station

China Lake Co: CA 93555-6100

Landholding Agency: Navy

Property Number: 77200110071

Status: Excess

Reason: Extensive deterioration

Bldg. 16115

Naval Air Weapons Station

China Lake Co: CA 93555-6100

Landholding Agency: Navy

Property Number: 77200110072

Status: Excess

Reason: Extensive deterioration

Bldg. 16117

Naval Air Weapons Station

China Lake Co: CA 93555-6100

Landholding Agency: Navy

Property Number: 77200110073

Status: Excess

Reason: Extensive deterioration

Bldg. 1235

Marine Corps Base

Camp Pendleton Co: CA 92055-

Landholding Agency: Navy

Property Number: 77200110082

Status: Excess

Reason: Extensive deterioration

Bldg. 1682

Marine Corps Base

Camp Pendleton Co: CA 92055-

Landholding Agency: Navy

Property Number: 77200110083

Status: Excess

Reason: Extensive deterioration

Bldg. 1683

Marine Corps Base

Camp Pendleton Co: CA 92055-

Landholding Agency: Navy

Property Number: 77200110084

Status: Excess

Reason: Extensive deterioration

Bldg. 1691

Marine Corps Base

Camp Pendleton Co: CA 92055-

Landholding Agency: Navy

Property Number: 77200110085

Status: Excess

Reason: Extensive deterioration

Bldg. 16109

Marine Corps Base

Camp Pendleton Co: CA 92055-

Landholding Agency: Navy

Property Number: 77200110086

Status: Excess

Reason: Extensive deterioration

Bldg. 16110

Marine Corps Base

Camp Pendleton Co: CA 92055-

Landholding Agency: Navy

Property Number: 77200110087

Status: Excess

Reason: Extensive deterioration

Bldg. 16128

Marine Corps Base

Camp Pendleton Co: CA 92055-

Landholding Agency: Navy

Property Number: 77200110088

Status: Excess

Reason: Extensive deterioration

Bldg. 33378

Marine Corps Base

Camp Pendleton Co: CA 92055-

Landholding Agency: Navy

Property Number: 77200110089

Status: Excess

Reason: Extensive deterioration

Bldg. 33566

Marine Corps Base

Camp Pendleton Co: CA 92055-

Landholding Agency: Navy

Property Number: 77200110090

Status: Excess

Reason: Extensive deterioration

Bldg. 33967

Marine Corps Base

Camp Pendleton Co: CA 920550-

Landholding Agency: Navy

Property Number: 77200110091

Status: Excess

Reason: Extensive deterioration

Bldg. 41318

Marine Corps Base

Camp Pendleton Co: CA 92055-

Landholding Agency: Navy

Property Number: 77200110092

Status: Excess

Reason: Extensive deterioration

Bldg. 41319

Marine Corps Base

Camp Pendleton Co: CA 92055-

Landholding Agency: Navy

Property Number: 77200110093

Status: Excess

Reason: Extensive deterioration

Bldg. 43454

Marine Corps Base

Camp Pendleton Co: CA 92055-

Landholding Agency: Navy

Property Number: 77200110094

Status: Excess

Reason: Extensive deterioration

Bldg. 43455

Marine Corps Base

Camp Pendleton Co: CA 92055-

Landholding Agency: Navy

Property Number: 77200110095

Status: Excess

Reason: Extensive deterioration

Bldg. 1231

Marine Corps Base

Camp Pendleton Co: CA 92055-

Landholding Agency: Navy

Property Number: 77200110096

Status: Excess

Reason: Extensive deterioration

Agency

Bldg. 1687

Marine Corps Base

Camp Pendleton Co: CA 92055-

Landholding Agency: Navy

Property Number: 77200110097

Status: Excess

Reason: Extensive deterioration

Bldg. 2622

Marine Corps Base

Camp Pendleton Co: CA 92055-

Landholding Agency: Navy

Property Number: 77200110098

Status: Excess

Reason: Extensive deterioration

Bldg. 31523

Marine Corps Base

Camp Pendleton Co: CA 92055-

Landholding Agency: Navy

Property Number: 77200110099

Status: Excess

Reason: Extensive deterioration

Bldg. 467

Marine Corps Recruit Depot

San Diego Co: CA 92132-

Landholding Agency: Navy

Property Number: 77200110100

Status: Unutilized

Reason: Secured Area

Bldg. 121 SNI

Naval Air Weapons Station

China Lake Co: CA 93555-6100

Landholding Agency: Navy

Property Number: 77200120001

Status: Excess

Reason: Extensive deterioration

Bldg. 121A SNI

Naval Air Weapons Station

China Lake Co: CA 93555-6100

Landholding Agency: Navy

Property Number: 77200120002

Status: Excess

Reason: Extensive deterioration

Bldg. 121B SNI

Naval Air Weapons Station

China Lake Co: CA 93555-6100

Landholding Agency: Navy

Property Number: 77200120003

Status: Excess

Reason: Extensive deterioration

Bldg. 137 SNI

Naval Air Weapons Station

China Lake Co: CA 93555-6100

Landholding Agency: Navy

Property Number: 77200120004

Status: Excess

Reason: Extensive deterioration

Bldg. 223 SNI

Naval Air Weapons Station

China Lake Co: CA 93555-6100

Landholding Agency: Navy

Property Number: 77200120005

Status: Excess

Reason: Extensive deterioration

Bldg. 171

Naval Base Pt. Loma

San Diego Co: CA 92132-

Landholding Agency: Navy

Property Number: 77200120069

Status: Unutilized

Reason: Secured Area

Bldg. 336

Naval Base Pt. Loma

San Diego Co: CA 92132-

Landholding Agency: Navy

Property Number: 77200120070

Status: Unutilized

Reason: Secured Area

Bldg. 338

Naval Base Pt. Loma

San Diego Co: CA 92132-

Landholding Agency: Navy

Property Number: 77200120071

Status: Unutilized

Reason: Secured Area

Bldg. 339

Naval Base Pt. Loma

San Diego Co: CA 92132-

Landholding Agency: Navy

Property Number: 77200120072

Status: Unutilized

Reason: Secured Area

Bldg. 345

Naval Base Pt. Loma

San Diego Co: CA 92132-

Landholding Agency: Navy

Property Number: 77200120073

Status: Unutilized

Reason: Secured Area

Bldg. 354

Naval Base Pt. Loma

San Diego Co: CA 92132-

Landholding Agency: Navy

Property Number: 77200120074

Status: Unutilized

Reason: Secured Area

Bldg. 355

Naval Base Pt. Loma

San Diego Co: CA 92132-

Landholding Agency: Navy

Property Number: 77200120075

Status: Unutilized

Reason: Secured Area

Bldg. 357

Naval Base Pt. Loma

San Diego Co: CA 92132-

Landholding Agency: Navy

Property Number: 77200120076

Status: Unutilized

Reasons: Secured Area, Extensive deterioration

Bldg. F-28

Naval Base Pt. Loma

San Diego Co: CA 92132-

Landholding Agency: Navy

Property Number: 77200120077

Status: Unutilized

Reason: Secured Area

Bldg. F-31

Naval Base Pt. Loma

San Diego Co: CA 92132-

Landholding Agency: Navy

Property Number: 77200120078

Status: Unutilized

Reason: Secured Area

Bldg. 01289

Naval Air Weapons Station

China Lake Co: CA 93555-6100

Landholding Agency: Navy

Property Number: 77200120089

Status: Excess

Reason: Extensive deterioration

Bldg. PM1529

Point Mugu, Naval Base

Oxnard Co: Ventura CA 93042-5001

Landholding Agency: Navy

Property Number: 77200120094

Status: Unutilized

Reason: Extensive deterioration

Bldg. PM1606

Point Mugu, Naval Base

Oxnard Co: Ventura CA 93042-5001

Landholding Agency: Navy

Property Number: 77200120095

Status: Unutilized

Reason: Extensive deterioration

Bldg. 53320

Marine Corps Base

Camp Pendleton Co: CA 92055-

Landholding Agency: Navy

Property Number: 77200120096

Status: Excess

Reason: Extensive deterioration

Bldg. 53321

Marine Corps Base

Camp Pendleton Co: CA 92055-

Landholding Agency: Navy

Property Number: 77200120097

Status: Excess

Reason: Extensive deterioration

Bldg. 53335

Marine Corps Base

Camp Pendleton Co: CA 92055-

Landholding Agency: Navy

Property Number: 77200120098

Status: Excess

Reason: Extensive deterioration

Bldg. 53336

Marine Corps Base

Camp Pendleton Co: CA 92055-

Landholding Agency: Navy

Property Number: 77200120099

Status: Excess

Reason: Extensive deterioration

Bldg. 70140

Naval Air Weapons Station

China Lake Co: CA 93555-6100

Landholding Agency: Navy

Property Number: 77200120107

Status: Excess

Reason: Extensive deterioration

Bldg. 70141

Naval Air Weapons Station

China Lake Co: CA 93555-6100

Landholding Agency: Navy

Property Number: 77200120108

Status: Excess

Reason: Extensive deterioration

Bldg. 70143

Naval Air Weapons Station

China Lake Co: CA 93555-6100

Landholding Agency: Navy

Property Number: 77200120109

Status: Excess

Reason: Extensive deterioration

Bldg. 25062

Naval Air Weapons Station

China Lake Co: CA 93555-6001

Landholding Agency: Navy

Property Number: 77200120114

Status: Excess

Reason: Extensive deterioration

Bldg. 33023

Naval Air Weapons Station

China Lake Co: CA 93555-6001

Landholding Agency: Navy

Property Number: 77200120115

Status: Excess

Reason: Extensive deterioration

Bldg. 33054

Naval Air Weapons Station

China Lake Co: CA 93555-6001

Landholding Agency: Navy

Property Number: 77200120116

Status: Excess

Reason: Extensive deterioration

Bldg. 106

Naval Amphibious Base

Naval Base Coronado

San Diego Co: CA 92135-7040

Landholding Agency: Navy

Property Number: 77200120134

Status: Excess

Reason: Extensive deterioration

Bldg. 108

Naval Amphibious Base

Naval Base Coronado

San Diego Co: CA 92135-7040

Landholding Agency: Navy

Property Number: 77200120135

Status: Excess

Reason: Extensive deterioration

Bldg. 109

Naval Amphibious Base

Naval Base Coronado

San Diego Co: CA 92135-7040

Landholding Agency: Navy

Property Number: 77200120136

Status: Excess

Reason: Extensive deterioration

Bldg. 110

Naval Amphibious Base

Naval Base Coronado

San Diego Co: CA 92135-7040

Landholding Agency: Navy

Property Number: 77200120137

Status: Excess

Reason: Extensive deterioration

Bldg. 147

Naval Amphibious Base

Naval Base Coronado

San Diego Co: CA 92135-7040

Landholding Agency: Navy

Property Number: 77200120138

Status: Excess

Reason: Extensive deterioration

Bldg. 163

Naval Amphibious Base

Naval Base Coronado

San Diego Co: CA 92135-7040

Landholding Agency: Navy

Property Number: 77200120139

Status: Excess

Reason: Extensive deterioration

Bldg. 244

Naval Amphibious Base

Naval Base Coronado

San Diego Co: CA 92133-5704

Landholding Agency: Navy

Property Number: 77200120140

Status: Excess

Reason: Extensive deterioration

Bldg. 250

Naval Amphibious Base

Naval Base Coronado

San Diego Co: CA 92135-7040

Landholding Agency: Navy

Property Number: 77200120141

Status: Excess

Reason: Extensive deterioration

Bldg. 251

Naval Amphibious Base

Naval Base Coronado

San Diego Co: CA 92135-7040

Landholding Agency: Navy

Property Number: 77200120142

Status: Excess

Reason: Extensive deterioration

Bldg. 252

Naval Amphibious Base

Naval Base Coronado

San Diego Co: CA 92135-7040

Landholding Agency: Navy

Property Number: 77200120143

Status: Excess

Reason: Extensive deterioration

Bldg. 311

Naval Amphibious Base

Naval Base Coronado

San Diego Co: CA 92135-7040

Landholding Agency: Navy

Property Number: 77200120144

Status: Excess

Reason: Extensive deterioration

Bldg. 313

Naval Amphibious Base

Naval Base Coronado

San Diego Co: CA 92135-7040

Landholding Agency: Navy

Property Number: 77200120145

Status: Excess

Reason: Extensive deterioration

Bldg. 318

Naval Amphibious Base

Naval Base Coronado

San Diego Co: CA 92135-7040

Landholding Agency: Navy

Property Number: 77200120146

Status: Excess

Reason: Extensive deterioration

Bldg. 339

Naval Amphibious Base

Naval Base Coronado

San Diego Co: CA 92135-7040

Landholding Agency: Navy

Property Number: 77200120147

Status: Excess

Reason: Extensive deterioration

Bldg. C-54

North Island

Naval Base Coronado

San Diego Co: CA 92135-7040

Landholding Agency: Navy

Property Number: 77200120148

Status: Excess

Reason: Extensive deterioration

Bldg. C-114

North Island

Naval Base Coronado

San Diego Co: CA 92135-7040

Landholding Agency: Navy

Property Number: 77200120149

Status: Excess

Reason: Extensive deterioration

Bldg. 124

North Island

Naval Base Coronado

San Diego Co: CA 92135-7040

Landholding Agency: Navy

Property Number: 77200120150

Status: Excess

Reason: Extensive deterioration

Bldg. 311

North Island

Naval Base Coronado

San Diego Co: CA 92135-7040

Landholding Agency: Navy

Property Number: 77200120151

Status: Excess

Reason: Extensive deterioration

Bldg. 312

North Island

Naval Base Coronado

San Diego Co: CA 92135-7040

Landholding Agency: Navy

Property Number: 77200120152

Status: Excess

Reason: Extensive deterioration

Bldg. 605

North Island

Naval Base Coronado

San Diego Co: CA 92135-7040

Landholding Agency: Navy

Property Number: 77200120153

Status: Excess

Reason: Extensive deterioration

Bldg. 610

North Island

Naval Base Coronado

San Diego Co: CA 92135-7040

Landholding Agency: Navy

Property Number: 77200120154

Status: Excess

Reason: Extensive deterioration

Bldg. 471

Marine Corps Recruit Depot

San Diego Co: CA 92132-

Landholding Agency: Navy

Property Number: 77200130103

Status: Unutilized

Reason: Secured Area

Connecticut

DG1-DG8, DG10-DG-27

Dolphin Gardens

Naval Submarine Base New London

Groton Co: New London CT 06349-

Landholding Agency: Navy

Property Number: 77199930025

Status: Unutilized

Reason: Extensive deterioration

Bldg. 480

Naval Submarine Base

Groton Co: New London CT 06349-

Landholding Agency: Navy

Property Number: 77200010075

Status: Unutilized

Reason: Secured Area

10 Bldgs./84.62 acres

Naval Weapons Ind. Rsv. Pl.

Bloomfield Co: Hartford CT 06002-0002

Landholding Agency: Navy

Property Number: 77200020096

Status: Unutilized

Reason: Secured Area

Bldg. 308

Naval Submarine Base

Groton Co: New London CT 06349-

Landholding Agency: Navy

Property Number: 77200030016

Status: Unutilized

Reason: Extensive deterioration

5 Bldgs.

Naval Submarine Base

#1, 3, 80, 154, 426

Groton Co: New London CT 06349-

Landholding Agency: Navy

Property Number: 77200120006

Status: Unutilized

Reason: Extensive deterioration

District of Columbia

Bldg. A-092

Naval Station Anacostia

Washington Co: DC 20374-

Landholding Agency: Navy

Property Number: 77200110046

Status: Underutilized

Reason: Secured Area

Florida

Bldg. 648

Naval Air Station

Pensacola Co: Escambia FL 32508-

Landholding Agency: Navy

Property Number: 77199920087

Status: Unutilized

Reason: Secured Area

Bldg. 1882

Naval Air Station

Pensacola Co: Escambia FL 32508-

Landholding Agency: Navy

Property Number: 77199920088

Status: Unutilized

Reasons: Secured Area

Extensive deterioration

Bldg. 3228

Naval Air Station

Pensacola Co: Escambia FL 32508-

Landholding Agency: Navy

Property Number: 77199920089

Status: Unutilized

Reason: Secured Area

Bldg. 3604

Naval Air Station

Pensacola Co: Escambia FL 32508-

Landholding Agency: Navy

Property Number: 77199920090

Status: Unutilized

Reason: Secured Area

Bldg. 3605

Naval Air Station

Pensacola Co: Escambia FL 32508-

Landholding Agency: Navy

Property Number: 77199920091

Status: Unutilized

Reason: Secured Area

Bldg. 3626

Naval Air Station

Pensacola Co: Escambia FL 32508-

Landholding Agency: Navy

Property Number: 77199920092

Status: Unutilized

Reason: Secured Area

Bldg. 3674

Naval Air Station

Pensacola Co: Escambia FL 32508-

Landholding Agency: Navy

Property Number: 77199920093

Status: Unutilized

Reason: Secured Area

Bldg. A-146

Boca Chica Annex

Naval Air Station

Key West Co: Monroe FL 33040-

Landholding Agency: Navy

Property Number: 77199930027

Status: Unutilized

Reason: Extensive deterioration

Bldg. A-232

Boca Chica Annex

Naval Air Station

Key West Co: Monroe FL 33040-

Landholding Agency: Navy

Property Number: 77199930028

Status: Unutilized

Reason: Extensive deterioration

Bldg. A-4020

Boca Chica Annex

Naval Air Station

Key West Co: Monroe FL 33040-

Landholding Agency: Navy

Property Number: 77199930029

Status: Unutilized

Reason: Extensive deterioration

Bldg. 3451

Naval Air Station

Pensacola Co: Escambia FL 32508-

Landholding Agency: Navy

Property Number: 77199940066

Status: Unutilized

Reason: Secured Area

Bldg. 1558

NAS Jacksonville

Jacksonville Co: Duval FL 32212-

Landholding Agency: Navy

Property Number: 77200010001

Status: Unutilized

Reasons: Within 2000 ft. of flammable or explosive material Secured Area

Bldg. 592

NAS Jacksonville

Jacksonville Co: Duval FL 32212-

Landholding Agency: Navy

Property Number: 77200010002

Status: Unutilized

Reasons: Secured Area, Extensive deterioration

Bldg. 610

NAS Jacksonville

Jacksonville Co: Duval FL 32212-

Landholding Agency: Navy

Property Number: 77200010003

Status: Unutilized

Reasons: Secured Area, Extensive deterioration

Bldg. 7L

NAS Jacksonville

Jacksonville Co: Duval FL 32212-

Landholding Agency: Navy

Property Number: 77200010004

Status: Unutilized

Reasons: Secured Area, Extensive deterioration

Bldg. 7M

NAS Jacksonville

Jacksonville Co: Duval FL 32212-

Landholding Agency: Navy

Property Number: 77200010005

Status: Unutilized

Reasons: Secured Area, Extensive deterioration

Bldg. 7N

NAS Jacksonville

Jacksonville Co: Duval FL 32212-

Landholding Agency: Navy

Property Number: 77200010006

Status: Unutilized

Reasons: Secured Area, Extensive deterioration

Bldg. 70

NAS Jacksonville

Jacksonville Co: Duval FL 32212-

Landholding Agency: Navy

Property Number: 77200010007

Status: Unutilized

Reasons: Secured Area, Extensive deterioration

Bldg. A-952

Naval Air Station

Boca Chica

Key West Co: Monroe FL 33040-

Landholding Agency: Navy

Property Number: 77200010034

Status: Unutilized

Reason: Extensive deterioration

Bldg. A-962

Naval Air Station

Boca Chica

Key West Co: Monroe FL 33040-

Landholding Agency: Navy

Property Number: 77200010035

Status: Unutilized

Reason: Extensive deterioration

Bldg. A-1105

Naval Air Station

Boca Chica

Key West Co: Monroe FL 33040-

Landholding Agency: Navy

Property Number: 77200010036

Status: Unutilized

Reason: Extensive deterioration

Bldg. 44

Naval Air Station

Pensacola Co: Escambia FL 32508-

Landholding Agency: Navy

Property Number: 77200010038

Status: Unutilized

Reason: Secured Area

Bldg. 58

Naval Air Station

Pensacola Co: Escambia FL 32508-

Landholding Agency: Navy

Property Number: 77200010039

Status: Unutilized

Reason: Secured Area

Bldg. 365

Naval Air Station

Pensacola Co: Escambia FL 32508-

Landholding Agency: Navy

Property Number: 77200010040

Status: Unutilized

Reason: Secured Area

Bldg. 455

Naval Air Station

Pensacola Co: Escambia FL 32508-

Landholding Agency: Navy

Property Number: 77200010041

Status: Unutilized

Reason: Secured Area

Bldg. 467

Naval Air Station

Pensacola Co: Escambia FL 32508-

Landholding Agency: Navy

Property Number: 77200010042

Status: Unutilized

Reason: Secured Area

Bldg. 475

Naval Air Station

Pensacola Co: Escambia FL 32508-

Landholding Agency: Navy

Property Number: 77200010043

Status: Unutilized

Reason: Secured Area

Bldg. 605A

Naval Air Station

Pensacola Co: Escambia FL 43508-

Landholding Agency: Navy

Property Number: 77200010044

Status: Unutilized

Reason: Secured Area

Bldg. 689

Naval Air Station

Pensacola Co: Escambia FL 32508-

Landholding Agency: Navy

Property Number: 77200010045

Status: Unutilized

Reason: Secured Area

Bldg. 802A

Naval Air Station

Pensacola Co: Escambia FL 32508-

Landholding Agency: Navy

Property Number: 77200010046

Status: Unutilized

Reason: Secured Area

Bldg. 835

Naval Air Station

Pensacola Co: Escambia FL 32508-

Landholding Agency: Navy

Property Number: 77200010047

Status: Unutilized

Reason: Secured Area

Bldg. 859B

Naval Air Station

Pensacola Co: Escambia FL 32508-

Landholding Agency: Navy

Property Number: 77200010048

Status: Unutilized

Reason: Secured Area

Bldg. 859C

Naval Air Station

Pensacola Co: Escambia FL 32508-

Landholding Agency: Navy

Property Number: 77200010049

Status: Unutilized

Reason: Secured Area

Bldg. 869

Naval Air Station

Pensacola Co: Escambia FL 32598-

Landholding Agency: Navy

Property Number: 77200010050

Status: Unutilized

Reason: Secured Area

Bldg. 1713

Naval Air Station

Pensacola Co: Escambia FL 32508-

Landholding Agency: Navy

Property Number: 77200010051

Status: Unutilized

Reason: Secured Area

Bldg. 2437

Naval Air Station

Pensacola Co: Escambia FL 32508-

Landholding Agency: Navy

Property Number: 77200010052

Status: Unutilized

Reason: Secured Area

Bldg. 2462

Naval Air Station

Pensacola Co: Escambia FL 32508-

Landholding Agency: Navy

Property Number: 77200010053

Status: Unutilized

Reason: Secured Area

Bldg. 3446

Naval Air Station

Pensacola Co: Escambia FL 32508-

Landholding Agency: Navy

Property Number: 77200010054

Status: Unutilized

Reason: Secured Area

Bldg. 3478

Naval Air Station

Pensacola Co: Escambia FL 32508-

Landholding Agency: Navy

Property Number: 77200010055

Status: Unutilized

Reason: Secured Area

Bldg. 3878

Naval Air Station

Pensacola Co: Escambia FL 32508-

Landholding Agency: Navy

Property Number: 77200010056

Status: Unutilized

Reason: Secured Area

Bldg. 7H

Naval Air Station

Jacksonville Co: Duval FL 32212-

Landholding Agency: Navy

Property Number: 77200020064

Status: Unutilized

Reasons: Secured Area, Extensive deterioration

Bldg. 7J

Naval Air Station

Jacksonville Co: Duval FL 32212-

Landholding Agency: Navy

Property Number: 77200020065

Status: Unutilized

Reasons: Secured Area, Extensive deterioration

Bldg. 7K

Naval Air Station

Jacksonville Co: Duval FL 32212-

Landholding Agency: Navy

Property Number: 77200020066

Status: Unutilized

Reasons: Secured Area, Extensive deterioration

Bldg. 106

Naval Air Station

Jacksonville Co: Duval FL 32212-

Landholding Agency: Navy

Property Number: 77200020067

Status: Unutilized

Reasons: Secured Area, Extensive deterioration

Bldg. 135

Naval Air Station

Jacksonville Co: Duval FL 32212-

Landholding Agency: Navy

Property Number: 77200020068

Status: Unutilized

Reasons: Secured Area, Extensive deterioration

Bldg. 142

Naval Air Station

Jacksonville Co: Duval FL 32212-

Landholding Agency: Navy

Property Number: 77200020069

Status: Unutilized

Reasons: Secured Area, Extensive deterioration

Bldg. 584

Naval Air Station

Jacksonville Co: Duval FL 32212-

Landholding Agency: Navy

Property Number: 77200020070

Status: Unutilized

Reasons: Secured Area, Extensive deterioration

Bldg. 610

Naval Air Station

Jacksonville Co: Duval FL 32212-

Landholding Agency: Navy

Property Number: 77200020071

Status: Unutilized

Reasons: Secured Area, Extensive deterioration

Bldg. 702

Naval Air Station

Jacksonville Co: Duval FL 32212-

Landholding Agency: Navy

Property Number: 77200020072

Status: Unutilized

Reasons: Secured Area, Extensive deterioration

Bldg. 703

Naval Air Station

Jacksonville Co: Duval FL 32212-

Landholding Agency: Navy

Property Number: 77200020073

Status: Unutilized

Reasons: Secured Area, Extensive deterioration

Bldg. 725

Naval Air Station

Jacksonville Co: Duval FL 32212-

Landholding Agency: Navy

Property Number: 77200020074

Status: Unutilized

Reasons: Secured Area, Extensive deterioration

Bldg. 740A

Naval Air Station

Jacksonville Co: Duval FL 32212-

Landholding Agency: Navy

Property Number: 77200020075

Status: Unutilized

Reasons: Secured Area, Extensive deterioration

Bldg. 54

Naval Station

Mayport Co: Duval FL 32228-

Landholding Agency: Navy

Property Number: 77200020076

Status: Unutilized

Reasons: Secured Area, Extensive deterioration

Bldg. 211

Naval Station

Mayport Co: Duval FL 32228-

Landholding Agency: Navy

Property Number: 77200020077

Status: Unutilized

Reasons: Secured Area, Extensive deterioration

Bldg. 62

NAS Jacksonville

Altoona Co: Marion FL 32702-

Landholding Agency: Navy

Property Number: 77200020111

Status: Unutilized

Reasons: Secured Area, Extensive deterioration

Bldg. 94

NAS Jacksonville

Altoona Co: Marion FL 32702-

Landholding Agency: Navy

Property Number: 77200020112

Status: Unutilized

Reasons: Secured Area, Extensive deterioration

Bldg. 114

Naval Air Station

Whiting Field

Milton Co: Santa Rosa FL 32570-

Landholding Agency: Navy

Property Number: 77200040006

Status: Underutilized

Reasons: Within airport runway clear zone, Secured Area

Bldg. 133

Naval Air Station

Whiting Field

Milton Co: Santa Rosa FL 32570-

Landholding Agency: Navy

Property Number: 77200040007

Status: Underutilized

Reasons: Within airport runway clear zone, Secured Area

Bldg. 141

Naval Air Station

Whiting Field

Milton Co: Santa Rosa FL 32570-

Landholding Agency: Navy

Property Number: 77200040008

Status: Underutilized

Reasons: Within airport runway clear zone, Secured Area

16 Bldgs.

Naval Air Station

Whiting Field

Milton Co: Santa Rosa FL 32570-

Location: 142, 151, 153, 156, 164, 170, 171, 176, 178, 180, 182-187

Landholding Agency: Navy

Property Number: 77200040009

Status: Underutilized

Reasons: Within airport runway clear zone, Secured Area

11 Bldgs.

Naval Air Station

Whiting Field

Milton Co: Santa Rosa FL 32570-

Location: 103, 105, 112, 113, 115-119, 121, 122

Landholding Agency: Navy

Property Number: 77200040010

Status: Underutilized

Reasons: Within airport runway clear zone, Secured Area

23 Bldgs.

Naval Air Station

Whiting Field

Milton Co: Santa Rosa FL 32570-

Location: 143-150, 152, 154, 155, 157, 158, 160-163, 165, 166, 168, 169, 179, 181

Landholding Agency: Navy

Property Number: 77200040011

Status: Underutilized

Reasons: Within airport runway clear zone, Secured Area

5 Bldgs.

Naval Air Station

Whiting Field

Milton Co: Santa Rosa FL 32570-

Location: 173, 174, 175, 177, 188

Landholding Agency: Navy

Property Number: 77200040012

Status: Underutilized

Reasons: Within airport runway clear zone, Secured Area

6 Bldgs.

Naval Air Station

Whiting Field

Milton Co: Santa Rosa FL 32570-

Location: 130-132, 134-136

Landholding Agency: Navy

Property Number: 77200040013

Status: Underutilized

Reasons: Within airport runway clear zone, Secured Area

Bldgs. 159, 167, 172

Naval Air Station

Whiting Field

Milton Co: Santa Rosa FL 32570-

Landholding Agency: Navy

Property Number: 77200040014

Status: Underutilized

Reasons: Within airport runway clear zone, Secured Area

5 Bldgs.

Naval Air Station

Whiting Field

Milton Co: Santa Rosa FL 32570-

Location: 124, 127, 138-140

Landholding Agency: Navy

Property Number: 77200040015

Status: Underutilized

Reasons: Within airport runway clear zone, Secured Area

5 Bldgs.

Naval Air Station

Whiting Field

Milton Co: Santa Rosa FL 32570-

Location: 107, 109, 111, 120, 123

Landholding Agency: Navy

Property Number: 77200040016

Status: Underutilized

Reasons: Within airport runway clear zone, Secured Area

5 Bldgs.

Naval Air Station

Whiting Field

Milton Co: Santa Rosa FL 32570-

Location: 102, 104, 106, 108, 110

Landholding Agency: Navy

Property Number: 77200040017

Status: Underutilized

Reasons: Within airport runway clear zone, Secured Area

Bldg. 36

Naval Station

Mayport Co: Duval FL 32228-

Landholding Agency: Navy

Property Number: 77200040021

Status: Unutilized

Reason: Extensive deterioration

Bldg. 348

Naval Station

Mayport Co: Duval FL 32228-

Landholding Agency: Navy

Property Number: 77200040022

Status: Unutilized

Reason: Extensive deterioration

Bldg. 1801

Naval Station Mayport

Mayport Co: Duval FL 32228-

Landholding Agency: Navy

Property Number: 77200040035

Status: Unutilized

Reasons: Within 2000 ft. of flammable or explosive material, Floodway Secured Area, Extensive deterioration

Bldg. 1802

Naval Station Mayport

Mayport Co: Duval FL 32228-

Landholding Agency: Navy

Property Number: 77200040036

Status: Unutilized

Reasons: Within 2000 ft. of flammable or explosive material, Floodway Secured Area, Extensive deterioration

Bldg. 1803

Naval Station Mayport

Mayport Co: Duval FL 32228-

Landholding Agency: Navy

Property Number: 77200040037

Status: Unutilized

Reasons: Within 2000 ft. of flammable or explosive material, Floodway Secured Area, Extensive deterioration

Bldg. 1859

Naval Station Mayport

Mayport Co: Duval FL 32228-

Landholding Agency: Navy

Property Number: 77200040038

Status: Unutilized

Reasons: Within 2000 ft. of flammable or explosive material, Floodway, Secured Area, Extensive deterioration

Bldg. 1558

Naval Station Mayport

Mayport Co: Duval FL 32228-

Landholding Agency: Navy

Property Number: 77200110016

Status: Unutilized

Reasons: Floodway, Secured Area, Extensive deterioration

Bldg. 183

Naval Air Station

Pensacola Co: Escambia FL 32508-

Landholding Agency: Navy

Property Number: 77200110019

Status: Unutilized

Reason: Secured Area

Bldg. 494

Naval Air Station

Pensacola Co: Escambia FL 32508-

Landholding Agency: Navy

Property Number: 77200110020

Status: Unutilized

Reason: Secured Area

Bldg. 647

Naval Air Station

Pensacola Co: Escambia FL 32508-

Landholding Agency: Navy

Property Number: 77200110021

Status: Unutilized

Reason: Secured Area

Bldg. 649B

Naval Air Station

Pensacola Co: Escambia FL 32508-

Landholding Agency: Navy

Property Number: 77200110022

Status: Unutilized

Reason: Secured Area

Bldg. 679

Naval Air Station

Pensacola Co: Escambia FL 32508-

Landholding Agency: Navy

Property Number: 77200110023

Status: Unutilized

Reason: Secured Area

Bldg. 692

Naval Air Station

Pensacola Co: Escambia FL 32508-

Landholding Agency: Navy

Property Number: 77200110024

Status: Unutilized

Reason: Secured Area

Bldg. 755

Naval Air Station

Pensacola Co: Escambia FL 32508-

Landholding Agency: Navy

Property Number: 77200110025

Status: Unutilized

Reason: Secured Area

Bldg. 785

Naval Air Station

Pensacola Co: Escambia FL 32508-

Landholding Agency: Navy

Property Number: 77200110026

Status: Unutilized

Reason: Secured Area

Bldg. 1704

Naval Air Station

Pensacola Co: Escambia FL 32508-

Landholding Agency: Navy

Property Number: 77200110027

Status: Unutilized

Reason: Secured Area

Bldg. 3448

Naval Air Station

Pensacola Co: Escambia FL 32508-

Landholding Agency: Navy

Property Number: 77200110028

Status: Unutilized

Reason: Secured area

Bldg. 3579

Naval Air Station

Pensacola Co: Escambia FL 32508-

Landholding Agency: Navy

Property Number: 77200110029

Status: Unutilized

Reason: Secured area

Bldg. 3673

Naval Air Station

Pensacola Co: Escambia FL 32508-

Landholding Agency: Navy

Property Number: 77200110030

Status: Unutilized

Reason: Secured area

Bldg. 3823

Naval Air Station

Pensacola Co: Escambia FL 32508-

Landholding Agency: Navy

Property Number: 77200110031

Status: Unutilized

Reason: Secured area

Bldg. 3824

Naval Air Station

Pensacola Co: Escambia FL 32508-

Landholding Agency: Navy

Property Number: 77200110032

Status: Unutilized

Reason: Secured area

Bldg. 369

Naval Station

Mayport Co: Duval FL 32228-

Landholding Agency: Navy

Property Number: 77200120007

Status: Unutilized

Reason: Extensive deterioration

Bldg. 370

Naval Station

Mayport Co: Duval FL 32228-

Landholding Agency: Navy

Property Number: 77200120008

Status: Unutilized

Reason: Extensive deterioration

Bldg. 2012

Naval Station

Mayport Co: Duval FL 32228-

Landholding Agency: Navy

Property Number: 77200120009

Status: Unutilized

Reason: Extensive deterioration

Bldg. C-25

Naval Air Station

Key West Co: Monroe FL 33040-

Landholding Agency: Navy

Property Number: 77200120117

Status: Unutilized

Reason: Extensive deterioration

Bldg. A-222

Naval Air Station

Key West Co: Monroe FL 33040-

Landholding Agency: Navy

Property Number: 77200120118

Status: Unutilized

Reason: Extensive deterioration

Bldg. 226

Naval Air Station

Key West Co: Monroe FL 33040-

Landholding Agency: Navy

Property Number: 77200120119

Status: Unutilized

Reason: Extensive deterioration

Bldg. A-255

Naval Air Station

Key West Co: Monroe FL 33040-

Landholding Agency: Navy

Property Number: 77200120120

Status: Unutilized

Reason: Extensive deterioration

Bldg. 299

Naval Air Station

Key West Co: Monroe FL 33040-

Landholding Agency: Navy

Property Number: 77200120121

Status: Unutilized

Reason: Extensive deterioration

Bldg. A-325

Naval Air Station

Key West Co: Monroe FL 33040-

Landholding Agency: Navy

Property Number: 77200120122

Status: Unutilized

Reason: Extensive deterioration

Bldg. A-628

Naval Air Station

Key West Co: Monroe FL 33040-

Landholding Agency: Navy

Property Number: 77200120123

Status: Unutilized

Reason: Extensive deterioration

Bldg. A-634

Naval Air Station

Key West Co: Monroe FL 33040-

Landholding Agency: Navy

Property Number: 77200120124

Status: Unutilized

Reason: Extensive deterioration

Bldg. A-728

Naval Air Station

Key West Co: Monroe FL 33040-

Landholding Agency: Navy

Property Number: 77200120125

Status: Unutilized

Reason: Extensive deterioration

Georgia

Bldg. 3012

Naval Submarine Base

Kings Bay Co: Camden GA 31547-

Landholding Agency: Navy

Property Number: 77199910001

Status: Unutilized

Reason: Extensive deterioration

Facility 5001

Naval Submarine Base

Kings Bay Co: Camden GA 31547-

Landholding Agency: Navy

Property Number: 77199940016

Status: Unutilized

Reason: Secured area

Facility 5002

Naval Submarine Base

Kings Bay Co: Camaden GA 31547-

Landholding Agency: Navy

Property Number: 77199940017

Status: Unutilized

Reason: Secured area

Facility 5003

Naval Submarine Base

Kings Bay Co: Camden GA 31547-

Landholding Agency: Navy

Property Number: 77199940018

Status: Unutilized

Reason: Secured area

Facility 5935

Naval Submarine Base

Kings Bay Co: Camden GA 31547-

Landholding Agency: Navy

Property Number: 77199940019

Status: Unutilized

Reason: Secured area

Guam

Bldg. 26

U.S. Naval Forces, Marianas

Waterfront Annex Co: GU 96540-0051

Landholding Agency: Navy

Property Number: 77200020049

Status: Unutilized

Reason: Secured area

Bldg. 3116

U.S. Naval Forces, Marianas

Waterfront Annex Co: GU 96540-0051

Landholding Agency: Navy

Property Number: 77200020052

Status: Unutilized

Reason: Secured area

Bldg. 123

U.S. Naval Forces

Marianas Co: Comm. Annex GU 96540-0051

Landholding Agency: Navy

Property Number: 77200120091

Status: Unutilized

Reason: Secured area

Bldg. 124

U.S. Naval Forces

Marianas Co: Comm. Annex GU 96540-0051

Landholding Agency: Navy

Property Number: 77200120092

Status: Unutilized

Reason: Secured area

Bldg. 135

U.S. Naval Forces

Marianas Co: Comm. Annex GU 96540-0051

Landholding Agency: Navy

Property Number: 77200120093

Status: Unutilized

Reason: Secured area

Hawaii

Bldg. 126, Naval Magazine

Waikele Branch

Lualualei Co: Oahu HI 96792-

Landholding Agency: Navy

Property Number: 77199230012

Status: Unutilized

Reasons: Within 2000 ft. of flammable or explosive material, Extensive deterioration, Secured area

Bldg. Q75, Naval Magazine

Lualualei Branch

Lualualei Co: Oahu HI 96792-

Landholding Agency: Navy

Property Number: 77199230013

Status: Unutilized

Reasons: Extensive deterioration, Secured area

Bldg. 7, Naval Magazine

Lualualei Branch

Lualualei Co: Oahu HI 96792-

Landholding Agency: Navy

Property Number: 77199230014

Status: Unutilized

Reasons: Extensive deterioration, Secured area

Bldg. 9

Navy Public Works Center

Kolekole Road

Lualualei Co: Honolulu HI 96782-

Landholding Agency: Navy

Property Number: 77199530009

Status: Excess

Reasons: Within 2000 ft. of flammable or explosive material, Secured area

Bldg. X5

Nanumea Road

Pearl Harbor Co: Honolulu HI 96782-

Landholding Agency: Navy

Property Number: 77199530010

Status: Excess

Reason: Secured area

Bldg. SX30

Nanumea Road

Pearl Harbor Co: Honolulu HI 96860-

Landholding Agency: Navy

Property Number: 77199530011

Status: Excess

Reason: Secured area

Bldg. 98

Pearl Harbor Naval Shipyard

Pearl Harbor Co: Honolulu HI 96860-

Landholding Agency: Navy

Property Number: 77199620032

Status: Excess

Reason: Extensive deterioration

Bldg. Q13

Naval Station, Ford Island

Pearl Harbor Co: Honolulu HI 96860-

Landholding Agency: Navy

Property Number: 77199640035

Status: Unutilized

Reason: Extensive deterioration

Bldg. Q14

Naval Station, Ford Island

Pearl Harbor Co: Honolulu HI 96860-

Landholding Agency: Navy

Property Number: 77199640036

Status: Unutilized

Reason: Extensive deterioration

Bldg. 40

Naval Magazine Lualualei

Co: Oahu HI 96792-4301

Landholding Agency: Navy

Property Number: 77199830028

Status: Unutilized

Reason: Extensive deterioration

Bldg. 50

Naval Magazine Lualualei

Co: Oahu HI 96792-4301

Landholding Agency: Navy

Property Number: 77199830029

Status: Unutilized

Reason: Extensive deterioration

Bldg. Q76

Naval Magazine Lualualei

Co: Oahu HI 96792-4301

Landholding Agency: Navy

Property Number: 77199830030

Status: Unutilized

Reason: Extensive deterioration

Bldg. Q334

Naval Magazine Lualualei

Co: Oahu HI 96792-4301

Landholding Agency: Navy

Property Number: 77199830031

Status: Unutilized

Reason: Extensive deterioration

Bldg. S380

Naval Magazine Lualualei

Co: Oahu HI 96792-4301

Landholding Agency: Navy

Property Number: 77199830032

Status: Unutilized

Reason: Extensive deterioration

Bldg. S381

Naval Magazine Lualualei

Co: Oahu HI 96792-4301

Landholding Agency: Navy

Property Number: 77199830033

Status: Unutilized

Reason: Extensive deterioration

Bldg. Q410

Naval Magazine Lualualei

Co: Oahu HI 96792-4301

Landholding Agency: Navy

Property Number: 77199830034

Status: Unutilized

Reason: Extensive deterioration

Bldg. Q422

Naval Magazine Lualualei

Co: Oahu HI 96792-4301

Landholding Agency: Navy

Property Number: 77199830035

Status: Unutilized

Reason: Extensive deterioration

Bldg. 429

Naval Magazine Lualualei

Co: Oahu HI 96792-4301

Landholding Agency: Navy

Property Number: 77199830036

Status: Unutilized

Reason: Extensive deterioration

Bldg. 431

Naval Magazine Lualualei

Co: Oahu HI 96792-4301

Landholding Agency: Navy

Property Number: 77199830037

Status: Unutilized

Reason: Extensive deterioration

Bldg. 447

Naval Magazine Lualualei

Co: Oahu HI 96792-4301

Landholding Agency: Navy

Property Number: 77199830038

Status: Unutilized

Reason: Extensive deterioration

Facility S-721

Naval Station

Pearl Harbor Co: Honolulu HI 96860-

Landholding Agency: Navy

Property Number: 77199840042

Status: Excess

Reason: Secured area

Facility S-897

Naval Station

Pearl Harbor Co: Honolulu HI 96860-

Landholding Agency: Navy

Property Number: 77199840043

Status: Excess

Reason: Secured area

Facility S-937

Naval Station

Pearl Harbor Co: Honolulu HI 96860-

Landholding Agency: Navy

Property Number: 77199840044

Status: Excess

Reason: Secured area

Facility 19

Naval Station

Pearl Harbor Co: Honolulu HI 96860-

Landholding Agency: Navy

Property Number: 77199840045

Status: Excess

Reason: Secured area

Facility 63

Naval Computer & Telecomm. Station

Wahiawa Co: HI 96786-

Landholding Agency: Navy

Property Number: 77199920013

Status: Excess

Reason: Extensive deterioration

Facility SX30

Navy Public Works Center

Pearl Harbor Co: Honolulu HI 96860-

Landholding Agency: Navy

Property Number: 77199920027

Status: Excess

Reasons: Secured area, Extensive deterioration

Illinois

Bldg. 415

Naval Training Center

201 N. Decatur Ave.

Great Lakes IL

Landholding Agency: Navy

Property Number: 77199840023

Status: Unutilized

Reason: Secured area

Bldg. 1015

Naval Training Center

201 N. Decatur Ave.

Great Lakes IL

Landholding Agency: Navy

Property Number: 77199840024

Status: Unutilized

Reason: Secured area

Bldg. 1016

Naval Training Center

201 N. Decatur Ave.

Great Lakes IL

Landholding Agency: Navy

Property Number: 77199840025

Status: Unutilized

Reason: Secured area

Bldg. 910

Naval Training Center

Great Lakes Co: IL 60088-5000

Landholding Agency: Navy

Property Number: 77199920055

Status: Unutilized

Reason: Secured area

Bldg. 800

Naval Training Center

Great Lakes Co: IL 60088-5000

Landholding Agency: Navy

Property Number: 77199920056

Status: Unutilized

Reason: Secured area,

Bldg. 1000

Naval Training Center

Great Lakes Co: IL 60088-5000

Landholding Agency: Navy

Property Number: 77199920057

Status: Unutilized

Reason: Secured area,

Bldg. 1200

Naval Training Center

Great Lakes Co: IL 60088-5000

Landholding Agency: Navy

Property Number: 77199920058

Status: Unutilized

Reason: Secured area,

Bldg. 1400

Naval Training Center

Great Lakes Co: IL 60088-5000

Landholding Agency: Navy

Property Number: 77199920059

Status: Unutilized

Reason: Secured area,

Bldg. 1600

Naval Training Center

Great Lakes Co: IL 60088-5000

Landholding Agency: Navy

Property Number: 77199920060

Status: Unutilized

Reason: Secured area,

Bldg. 2600

Naval Training Center

Great Lakes Co: IL 60088-5000

Landholding Agency: Navy

Property Number: 77199920061

Status: Unutilized

Reason: Secured area,

Indiana

Bldg. 3

Naval Surface Warfare

Naval Investigation Ofc.

Crane Co: Lawrence IN 47522-

Landholding Agency: Navy

Property Number: 77200010057

Status: Unutilized

Reasons: Within 2000 ft. of flammable or explosive material, Secured area,

3 Bldgs.

Naval Surface Warfare 157, 166, 171

Crane Co: Lawrence IN 47522-

Landholding Agency: Navy

Property Number: 77200010058

Status: Unutilized

Reasons: Within 2000 ft. of flammable or explosive material, Secured area,

3 Bldgs.

Naval Surface Warfare

#22, 2792, 2794

Crane Co: Lawrence IN 47522-

Landholding Agency: Navy

Property Number: 77200010059

Status: Unutilized

Reasons: Within 2000 ft. of flammable or explosive material Secured area,

3 Bldgs.

Naval Surface Warfare

#158, 167, 172

Crane Co: Lawrence IN 47522-

Landholding Agency: Navy

Property Number: 77200010060

Status: Unutilized

Reasons: Within 2000 ft. of flammable or explosive material, Secured area

Bldgs. 162, 163

Naval Surface Warfare

Crane Co: Lawrence IN 47522-

Landholding Agency: Navy

Property Number: 77200010061

Status: Unutilized

Reasons: Within 2000 ft. of flammable or explosive material, Secured area

Bldgs. 169D, 169E

Naval Surface Warfare

Crane Co: Lawrence IN 47522-

Landholding Agency: Navy

Property Number: 77200010062

Status: Unutilized

Reasons: Within 2000 ft. of flammable or explosive material, Secured area

4 Bldgs.

Naval Surface Warfare

#173, 2171, 2172, 2179

Crane Co: Lawrence IN 47522-

Landholding Agency: Navy

Property Number: 77200010063

Status: Unutilized

Reasons: Within 2000 ft. of flammable or explosive material, Secured area

5 Bldgs.

Naval Surface Warfare 2174, 2175, 2176, 2193, 2784

Crane Co: Lawrence IN 47522-

Landholding Agency: Navy

Property Number: 77200010064

Status: Unutilized

Reasons: Within 2000 ft. of flammable or explosive material, Secured area

Bldgs. 2500, 2501

Naval Surface Warfare

Crane Co: Lawrence IN 47522-

Landholding Agency: Navy

Property Number: 77200010065

Status: Unutilized

Reasons: Within 2000 ft. of flammable or explosive material, Secured area

3 Bldgs.

Naval Surface Warfare

#2502, 2503, 2715

Crane Co: Lawrence IN 47522-

Landholding Agency: Navy

Property Number: 77200010066

Status: Unutilized

Reasons: Within 2000 ft. of flammable or explosive material, Secured area

10 Bldgs.

Naval Surface Warfare

#2803, 2855-2863

Crane Co: Lawrence IN 47522-

Landholding Agency: Navy

Property Number: 77200010067

Status: Unutilized

Reasons: Within 2000 ft. of flammable or explosive material, Secured area

Bldgs. 2905, 3074

Naval Surface Warfare

Crane Co: Lawrence IN 47522-

Landholding Agency: Navy

Property Number: 77200010068

Status: Unutilized

Reasons: Within 2000 ft. of flammable or explosive material, Secured area

Maine

Aircraft Hangar #2

Naval Air Station

Brunswick Co: Cumberland ME 04011-

Landholding Agency: Navy

Property Number: 77199810015

Status: Excess

Reason: Extensive deterioration

Bldg. 13

Naval Air Station

Brunswick Co: Cumberland ME 04011-

Landholding Agency: Navy

Property Number: 77199840005

Status: Excess

Reason: Extensive deterioration

Bldg. 15

Naval Air Station

Brunswick Co: Cumberland ME 04011-

Landholding Agency: Navy

Property Number: 77199840006

Status: Excess

Reason: Extensive deterioration

Bldg. 16

Naval Air Station

Brunswick Co: Cumberland ME 04011-

Landholding Agency: Navy

Property Number: 77199840007

Status: Excess

Reason: Extensive deterioration

Bldg. 90

Naval Security Group Activity

Winter Harbor Co: ME 00000-

Landholding Agency: Navy

Property Number: 77200020098

Status: Excess

Reason: Extensive deterioration

Maryland

15 Bldgs.

Naval Air Warfare Center

Patuxent River Co: St. Mary's MD 20670-5304

Landholding Agency: Navy

Property Number: 77199730062

Status: Unutilized

Reason: Extensive deterioration

Bldg. 163

Naval Surface Warfare Center

Carderock Division

West Bethesda Co: Montgomery MD 20817-5700

Landholding Agency: Navy

Property Number: 77200010033

Status: Unutilized

Reason: Extensive deterioration

Bldg. 867

Naval Air Station

Patuxent River Co: MD 20670-

Landholding Agency: Navy

Property Number: 77200120010

Status: Excess

Reason: Extensive deterioration

Bldg. 868

Naval Air Station

Patuxent River Co: MD 20670-

Landholding Agency: Navy

Property Number: 77200120011

Status: Excess

Reason: Extensive deterioration

Bldg. 1044

Naval Air Station

Patuxent River Co: MD 20670-

Landholding Agency: Navy

Property Number: 77200120012

Status: Excess

Reason: Extensive deterioration

Mississippi

Bldg. 78

Naval Construction Battalion Center

Gulfport Co: Harrison MS 39501-5001

Landholding Agency: Navy

Property Number: 77199830047

Status: Unutilized

Reasons: Secured area, Extensive deterioration

Bldg. 113

Naval Construction Battalion Center

Gulfport Co: Harrison MS 39501-5001

Landholding Agency: Navy

Property Number: 77199830048

Status: Unutilized

Reasons: Secured area, Extensive deterioration

Bldg. 147

Naval Construction Battalion Center

Gulfport Co: Harrison MS 39501-5001

Landholding Agency: Navy

Property Number: 77199830049

Status: Unutilized

Reasons: Secured area, Extensive deterioration

Bldg. 187

Naval Construction Battalion Center

Gulfport Co: Harrison MS 39501-5001

Landholding Agency: Navy

Property Number: 77199830050

Status: Unutilized

Reasons: Secured area, Extensive deterioration

Bldg. 7

Construction Battalion Center

Gulfport Co: Harrison MS 39501-

Landholding Agency: Navy

Property Number: 77199930010

Status: Unutilized

Reasons: Secured area, Extensive deterioration

Bldg. 75

Construction Battalion Center

Gulfport Co: Harrison MS 39501-

Landholding Agency: Navy

Property Number: 77199930011

Status: Unutilized

Reasons: Secured area, Extensive deterioration

Bldg. 179

Construction Battalion Center

Gulfport Co: Harrison MS 39501-

Landholding Agency: Navy

Property Number: 77199930012

Status: Unutilized

Reasons: Secured area, Extensive deterioration

Structure 262

Construction Battalion Center

Gulfport Co: Harrison MS 39501-

Landholding Agency: Navy

Property Number: 77199930013

Status: Unutilized

Reason: Secured area

Bldg. 279

Construction Battalion Center

Gulfport Co: Harrison MS 39501-

Landholding Agency: Navy

Property Number: 77199930014

Status: Unutilized

Reasons: Secured area, Extensive deterioration

Bldg. 326

Construction Battalion Center

Gulfport Co: Harrison MS 39501-

Landholding Agency: Navy

Property Number: 77199930015

Status: Unutilized

Reasons: Secured area, Extensive deterioration

Bldg. 412

Construction Battalion Center

Gulfport Co: Harrison MS 39501-

Landholding Agency: Navy

Property Number: 77199930016

Status: Unutilized

Reasons: Secured area, Extensive deterioration

Bldg. 49

CBC Gulfport

Gulfport Co: Harrison MS 39501-

Landholding Agency: Navy

Property Number: 77200010024

Status: Unutilized

Reasons: Secured area, Extensive deterioration

Bldg. 130

CBC Gulfport

Gulfport Co: Harrison MS 39501-

Landholding Agency: Navy

Property Number: 77200010025

Status: Unutilized

Reasons: Secured area, Extensive deterioration

Bldg. 368

CBC Gulfport

Gulfport Co: Harrison MS 39501-

Landholding Agency: Navy

Property Number: 77200010026

Status: Unutilized

Reasons: Secured area, Extensive deterioration

Bldg. 390

CBC Gulfport

Gulfport Co: Harrison MS 39501-

Landholding Agency: Navy

Property Number: 77200010027

Status: Unutilized

Reasons: Secured area, Extensive deterioration

Bldg. 43

Construction Battalion Center

Gulfport Co: Harrison MS 39501-

Landholding Agency: Navy

Property Number: 77200030076

Status: Unutilized

Reasons: Secured area, Extensive deterioration

Bldg. 44

Construction Battalion Center

Gulfport Co: Harrison MS 39501-

Landholding Agency: Navy

Property Number: 77200030077

Status: Unutilized

Reasons: Secured area, Extensive deterioration

Bldg. 164

Construction Battalion Center

Gulfport Co: Harrison MS 39501-

Landholding Agency: Navy

Property Number: 77200030078

Status: Unutilized

Reasons: Secured area, Extensive deterioration

Missouri

Steam Line/Support Structure

Marine Corps Support Activity

Kansas City Co: Jackson MO 64147-

Landholding Agency: Navy

Property Number: 77200030017

Status: Unutilized

Reason: Extensive deterioration

New Hampshire

Bldg. 89

Portsmouth Naval Shipyard

Portsmouth NH 03804-5000

Landholding Agency: Navy

Property Number: 77199830086

Status: Unutilized

Reason: Secured area

Bldg. 99

Portsmouth Naval Shipyard

Portsmouth NH 03804-5000

Landholding Agency: Navy

Property Number: 77199830088

Status: Unutilized

Reason: Secured area

Bldg. 115

Portsmouth Naval Shipyard

Portsmouth NH 03804-5000

Landholding Agency: Navy

Property Number: 77199830089

Status: Unutilized

Reason: Secured area

Bldg. 178

Portsmouth Naval Shipyard

Portsmouth NH 03804-5000

Landholding Agency: Navy

Property Number: 77199830090

Status: Unutilized

Reason: Secured area

Bldg. 298

Portsmouth Naval Shipyard

Portsmouth NH 03804-5000

Landholding Agency: Navy

Property Number: 77199830091

Status: Unutilized

Reasons: Within 2000 ft. of flammable or explosive material, Secured area

Bldg. H-21

Portsmouth Naval Shipyard

Portsmouth NH 03804-5000

Landholding Agency: Navy

Property Number: 77199830092

Status: Unutilized

Reasons: Within 2000 ft. of flammable or explosive material, Secured area

Dry Dock 1

Portsmouth Naval Shipyard

Portsmouth NH 03804-5000

Landholding Agency: Navy

Property Number: 77199840012

Status: Underutilized

Reason: Secured area

Dry Dock 3

Portsmouth Naval Shipyard

Portsmouth NH 03804-5000

Landholding Agency: Navy

Property Number: 77199840013

Status: Underutilized

Reason: Secured area

Berth 2

Portsmouth Naval Shipyard

Portsmouth NH 03804-5000

Landholding Agency: Navy

Property Number: 77199840014

Status: Underutilized

Reason: Secured area

Berth 11

Portsmouth Naval Shipyard

Portsmouth NH 03804-5000

Landholding Agency: Navy

Property Number: 77199840015

Status: Underutilized

Reason: Secured area

Parcel #1

Portsmouth Naval Shipyard

Portsmouth Co: NH 03804-5000

Landholding Agency: Navy

Property Number: 77199910002

Status: Underutilized

Reasons: Within 2000 ft. of flammable or explosive material, Secured area

Parcel #2

Portsmouth Naval Shipyard

Portsmouth Co: NH 03804-5000

Landholding Agency: Navy

Property Number: 77199910003

Status: Underutilized

Reasons: Within 2000 ft. of flammable or explosive material, Secured area

Parcel #3

Portsmouth Naval Shipyard

Portsmouth Co: NH 03804-5000

Landholding Agency: Navy

Property Number: 77199910004

Status: Underutilized

Reasons: Within 2000 ft. of flammable or explosive material, Extensive deterioration

Bldg. 55

Portsmouth Naval Shipyard

Portsmouth Co: NH 03804-5000

Landholding Agency: Navy

Property Number: 77199940020

Status: Unutilized

Reason: Secured area

Bldg. 150

Portsmouth Naval Shipyard

Portsmouth Co: NH 03804-5000

Landholding Agency: Navy

Property Number: 77199940021

Status: Unutilized

Reason: Secured area

New Jersey

Bldg. 188

Naval Air Engineering Station

Lakehurst Co: Ocean NJ 08733-5000

Landholding Agency: Navy

Property Number: 77199830065

Status: Unutilized

Reason: Extensive deterioration

Bldg. 473

Naval Air Engineering Station

Lakehurst Co: Ocean NJ 08733-5000

Landholding Agency: Navy

Property Number: 77199920024

Status: Unutilized

Reason: Extensive deterioration

Bldg. 474

Naval Air Engineering Station

Lakehurst Co: Ocean NJ 08733-5000

Landholding Agency: Navy

Property Number: 77199920025

Status: Unutilized

Reason: Extensive deterioration

Bldgs. 220, 234, 236

Naval Air Engineering Station

Lakehurst Co: Ocean NJ 08733-5000

Landholding Agency: Navy

Property Number: 77199930017

Status: Unutilized

Reason: Extensive deterioration

28 Sheds

Naval Weapons Station

Colts Neck Co: NJ 07722-

Landholding Agency: Navy

Property Number: 77199940026

Status: Unutilized

Reason: Extensive deterioration

Bldg. FA-1

Naval Weapons Station

Colts Neck Co: Earle NJ 07722-

Landholding Agency: Navy

Property Number: 77200010008

Status: Unutilized

Reason: Extensive deterioration

Bldg. GB-1

Naval Weapons Station

Colts Neck Co: Earle NJ 07722-

Landholding Agency: Navy

Property Number: 77200010009

Status: Unutilized

Reason: Extensive deterioration

Bldg. R-18

Naval Weapons Station

Colts Neck Co: Earle NJ 07722-

Landholding Agency: Navy

Property Number: 77200010010

Status: Unutilized

Reason: Extensive deterioration

Bldg. S-62

Naval Weapons Station

Colts Neck Co: Earle NJ 07722-

Landholding Agency: Navy

Property Number: 77200010011

Status: Unutilized

Reason: Extensive deterioration

Bldg. S-412

Naval Weapons Station

Colts Neck Co: Earle NJ 07722-

Landholding Agency: Navy

Property Number: 77200010012

Status: Unutilized

Reason: Extensive deterioration

Bldg. S-457

Naval Weapons Station

Colts Neck Co: Earle NJ 07722-

Landholding Agency: Navy

Property Number: 77200010013

Status: Unutilized

Reason: Extensive deterioration

Bldg. 1042

Naval Air Eng. Station

Lakehurst Co: Ocean NJ 08733-5000

Landholding Agency: Navy

Property Number: 77200040039

Status: Unutilized

Reason: Extensive deterioration

Hangar 1

Naval Air Engineering Station

Lakehurst Co: Ocean NJ 08733-5000

Landholding Agency: Navy

Property Number: 77200110101

Status: Underutilized

Reason: Secured area

Bldg. B-33

Naval Air Engineering Station

Lakehurst Co: Ocean NJ 08733-5000

Landholding Agency: Navy

Property Number: 77200110102

Status: Underutilized

Reason: Secured area

Bldg. B-487A

Naval Air Engineering Station

Lakehurst Co: Ocean NJ 08733-5000

Landholding Agency: Navy

Property Number: 77200110103

Status: Excess

Reason: Secured area

New Mexico

Bldg. N149

Naval Air Warfare

White Sands Co: NM 88002-

Landholding Agency: Navy

Property Number: 77200110104

Status: Excess

Reason: Extensive deterioration

North Carolina

Bldg. M-319

Marine Corps Base

Camp Lejeune Co: Onslow NC 28542-

Landholding Agency: Navy

Property Number: 77200120127

Status: Unutilized

Reason: Secured area

Pennsylvania

Bldg. 524

Naval Systems Engineering Station

Philadelphia PA 19112-

Landholding Agency: Navy

Property Number: 77199830023

Status: Unutilized

Reason: Extensive deterioration

Bldg. 152

Naval Air Station Willow Grove

Willow Grove Co: Montgomery PA 19113-

Landholding Agency: Navy

Property Number: 77199930018

Status: Excess

Reason: Extensive deterioration

Bldg. 185

Naval Air Station Willow Grove

Willow Grove Co: Montgomery PA 19113-

Landholding Agency: Navy

Property Number: 77199930019

Status: Excess

Reason: Extensive deterioration

Bldg. 603

Naval Support Station

Mechanicsburg Co: Cumberland PA 17055-0788

Landholding Agency: Navy

Property Number: 77199940015

Status: Unutilized

Reason: Extensive deterioration

Facility 22

Naval Support Station

Philadelphia Co: PA 19111-5098

Landholding Agency: Navy

Property Number: 77199940060

Status: Excess

Reason: Extensive deterioration

Bldg. 85

Naval Support Activity

Philadelphia Co: PA 19111-5098

Landholding Agency: Navy

Property Number: 77200010021

Status: Unutilized

Reason: Extensive deterioration

Bldg. 9

Navy Surface Warfare Center

Philadelphia Co: PA 19112-

Landholding Agency: Navy

Property Number: 77200030066

Status: Unutilized

Reason: Extensive deterioration

Bldg. 51

Navy Surface Warfare Center

Philadelphia Co: PA 19112-

Landholding Agency: Navy

Property Number: 77200030067

Status: Unutilized

Reason: Extensive deterioration

Bldg. 52

Navy Surface Warfare Center

Philadelphia Co: PA 19112-

Landholding Agency: Navy

Property Number: 77200030068

Status: Unutilized

Reason: Extensive deterioration

Bldg. 84

Navy Surface Warfare Center

Philadelphia Co: PA 19112-

Landholding Agency: Navy

Property Number: 77200030069

Status: Unutilized

Reason: Extensive deterioration

Bldg. 950

Navy Surface Warfare Center

Philadelphia Co: PA 19112-

Landholding Agency: Navy

Property Number: 77200030070

Status: Unutilized

Reason: Extensive deterioration

Puerto Rico

B-38

Naval Station Roosevelt Roads

Ceiba PR 00735-

Landholding Agency: Navy

Property Number: 77199830075

Status: Unutilized

Reason: Extensive deterioration

Rhode Island

Bldg. 52

Gould Island, Naval Station

Newport Co: RI 00000-

Landholding Agency: Navy

Property Number: 77199930020

Status: Excess

Reasons: Not accessible by road, Extensive deterioration

South Carolina

Bldg. 49

Naval Public Works Center

Goose Creek Co: Berkeley SC 29445-

Landholding Agency: Navy

Property Number: 77200020062

Status: Unutilized

Reasons: Secured area, Extensive deterioration

Bldg. 38

Naval Air Station

Goose Creek Co: Berkeley SC 29445-

Landholding Agency: Navy

Property Number: 77200020105

Status: Unutilized

Reasons: Secured area, Extensive deterioration

4 Industrial Bldgs.

Naval Weapons Station Charleston 88, 92, 94, 354

Goose Creek Co: Berkeley SC 29445-

Landholding Agency: Navy

Property Number: 77200020113

Status: Unutilized

Reasons: Within 2000 ft. of flammable or explosive material, Secured area

4 Heat Plant Bldgs.

Naval Weapons Station Charleston 89, 95, 355, 438

Goose Creek Co: Berkeley SC 29445-

Landholding Agency: Navy

Property Number: 77200020114

Status: Unutilized

Reasons: Within 2000 ft. of flammable or explosive material, Secured area

8 Security Bldgs.

Naval Weapons Station Charleston 313, 859, 860, 897, 918, 1654, 1655, 3217

Goose Creek Co: Berkeley SC 29445-

Landholding Agency: Navy

Property Number: 77200020115

Status: Unutilized

Reasons: Within 2000 ft. of flammable or explosive material, Secured area

8 Storage Bldgs.

Naval Weapons Station Charleston 307, 353, 799, 831, 861, 933, 984, 994 Goose Creek Co: Berkeley SC 29445-

Landholding Agency: Navy

Property Number: 77200020116

Status: Unutilized

Reasons: Within 2000 ft. of flammable or explosive material, Secured area

6 Bldgs.

Naval Weapons Station Charleston 183, 855, 868, 968, 3238, 408 Goose Creek Co: Berkeley SC 29445-

Landholding Agency: Navy

Property Number: 77200020117

Status: Unutilized

Reasons: Within 2000 ft. of flammable or explosive material, Secured area

Bldg. 2012

Naval Weapons Station

Charleston

Goose Creek Co: Berkeley SC 29445-

Landholding Agency: Navy

Property Number: 77200030057

Status: Excess

Reason: Extensive deterioration

Bldg. 7

Naval Weapons Station

Goose Creek Co: Berkeley SC 29445-

Landholding Agency: Navy

Property Number: 77200040030

Status: Unutilized

Reason: Secured area

Bldg. 314

Naval Weapons Station

Goose Creek Co: Berkeley SC 29445-

Landholding Agency: Navy

Property Number: 77200040031

Status: Unutilized

Reason: Secured area

Bldg. 316

Naval Weapons Station

Goose Creek Co: Berkeley SC 29445-

Landholding Agency: Navy

Property Number: 77200040032

Status: Unutilized

Reason: Secured area

36 Bldgs.

Naval Weapons Station Charleston

Goose Creek Co: Berkeley SC 29445-

Location: 34, 47, 63, 67, 203, 276, 297, 306, 334, 350, 370, 383, 435, 725, 798, 806, 823, 844, 905, 906, 907, 912, 915, 919, 920, 923, 924, 948, 954, 992, 2333, 2334, 3232, 3741, 3761, 454

Landholding Agency: Navy

Property Number: 77200110033

Status: Excess

Reasons: Within 2000 ft. of flammable or explosive material, Secured area

Tennessee

20 Bldgs.

Naval Support Activity

Millington Co: Shelby TN 38054-

Location: 766, 1597-1598, 5238, 435-446, S239, S75, 1211, 1379

Landholding Agency: Navy

Property Number: 77199940027

Status: Excess

Reasons: Secured area

Extensive deterioration

6 Bldgs.

Naval Support Activity #2003, 2016, 2024, 2025, 2076, 2077

Millington Co: TN 38054-

Landholding Agency: Navy

Property Number: 77200120013

Status: Excess

Reason: Secured area

Bldgs. 430, 434, R23-99

Naval Support Activity

Millington Co: TN 38054-

Landholding Agency: Navy

Property Number: 77200130104

Status: Excess

Reason: Secured area

5 Bldgs.

Naval Support Activity

Millington Co: TN 38054-

Landholding Agency: Navy

Property Number: 77200130105

Status: Excess

Reason: Secured area

Texas

Bldgs. 1561, 1562, 1563

Naval Air Station Joint Reserve Base

Ft. Worth Co: Tarrant TX 76127-6200

Landholding Agency: Navy

Property Number: 77199820050

Status: Unutilized

Reasons: Secured area

Extensive deterioration

Bldg. 1190

Naval Air Station Joint Reserve Base

Ft. Worth Co: Tarrant TX 76127-6200

Landholding Agency: Navy

Property Number: 77199820053

Status: Unutilized

Reason: Secured area

Bldg. 1820

Naval Air Station Joint Reserve Base

Ft. Worth Co: Tarrant TX 76127-6200

Landholding Agency: Navy

Property Number: 77199820054

Status: Unutilized

Reasons: Secured Area

Extensive deterioration

Facilities 105 and 105C

Naval Station

Corpus Christi Co: Nueces TX 78419-5021

Landholding Agency: Navy

Property Number: 77199910012

Status: Unutilized

Reason: Extensive deterioration

Bldg. 101

Naval Air Station

Corpus Christi Co: Nueces TX 78419-5021

Landholding Agency: Navy

Property Number: 77199940052

Status: Excess

Reason: Extensive deterioration

Bldg. 198

Naval Air Station

Corpus Christi Co: Nueces TX 78419-5021

Landholding Agency: Navy

Property Number: 77199940053

Status: Excess

Reason: Extensive deterioration

Bldg. 1104

Naval Air Station

Corpus Christi Co: Nueces TX 78419-5021

Landholding Agency: Navy

Property Number: 77199940054

Status: Excess

Reason: Extensive deterioration

Bldg. 1198

Naval Air Station

Corpus Christi Co: Nueces TX 78419-5021

Landholding Agency: Navy

Property Number: 77199940055

Status: Excess

Reason: Extensive deterioration

Bldg. 1823

Naval Air Station

Corpus Christi Co: Nueces TX 78419-5021

Landholding Agency: Navy

Property Number: 77199940056

Status: Excess

Reason: Extensive deterioration

Bldg. H-9

Naval Air Station

Corpus Christi Co: Nueces TX 78419-5021

Landholding Agency: Navy

Property Number: 77199940057

Status: Excess

Reason: Extensive deterioration

Bldg. H-45

Naval Air Station

Corpus Christi Co: Nueces TX 78419-5021

Landholding Agency: Navy

Property Number: 77199940058

Status: Excess

Reason: Extensive deterioration

Bldg. H-54

Naval Air Station

Corpus Christi Co: Nueces TX 78419-5021

Landholding Agency: Navy

Property Number: 77199940059

Status: Excess

Reason: Extensive deterioration

Bldg. 1504

Naval Air Station

Joint Reserve Base

Ft. Worth Co: Tarrant TX 76127-6200

Landholding Agency: Navy

Property Number: 77200110018

Status: Unutilized

Reason: Extensive deterioration

Facility 119

Naval Air Station

Corpus Christi Co: Nueces TX 78419-5021

Landholding Agency: Navy

Property Number: 77200110047

Status: Excess

Reasons: Within airport runway clear zone, Secured area, Extensive deterioration

Bldg. 1149

Naval Air Station

Ft. Worth Co: Tarrant TX 76127-6200

Landholding Agency: Navy

Property Number: 77200120014

Status: Unutilized

Reason: Extensive deterioration

Bldg. 4200

Naval Air Station

Ft. Worth Co: Tarrant TX 76127-6200

Landholding Agency: Navy

Property Number: 77200120015

Status: Unutilized

Reason: Extensive deterioration

Bldg. 1173

Naval Air Station

Ft. Worth Co: Tarrant TX 76127-6200

Landholding Agency: Navy

Property Number: 77200120016

Status: Unutilized

Reason: Extensive deterioration

Bldg. 1268

Naval Air Station

Ft. Worth Co: Tarrant TX 76127-6200

Landholding Agency: Navy

Property Number: 77200120017

Status: Unutilized

Reason: Extensive deterioration

Bldg. 1837

Naval Air Station

Ft. Worth Co: Tarrant TX 76127-6200

Landholding Agency: Navy

Property Number: 77200120018

Status: Unutilized

Reason: Extensive deterioration

Bldg. 1346

Naval Air Station

Ft. Worth Co: Tarrant TX 76127-

Landholding Agency: Navy

Property Number: 77200120156

Status: Excess

Reasons: Secured area, Extensive deterioration

Virginia

Bldg. O2

Naval Weapons Station

Yorktown Co: York VA 23691-

Landholding Agency: Navy

Property Number: 77199810073

Status: Excess

Reason: Extensive deterioration

Bldg. 2208

Naval Medical Clinic

Quantico VA

Landholding Agency: Navy

Property Number: 77199820001

Status: Unutilized

Reason: Extensive deterioration

Bldgs. 358, 359

Cheatham Annex

Williamsburg VA 23185-

Landholding Agency: Navy

Property Number: 77199820023

Status: Excess

Reason: Extensive deterioration

Bldg. CAD-43

Cheatham Annex

Williamsburg VA 23185-

Landholding Agency: Navy

Property Number: 77199820024

Status: Excess

Reason: Extensive deterioration

Bldg. CAD-102

Cheatham Annex

Williamsburg VA 23185-

Landholding Agency: Navy

Property Number: 77199820025

Status: Excess

Reason: Extensive deterioration

Bldg. CAD-102A

Cheatham Annex

Williamsburg VA 23185-

Landholding Agency: Navy

Property Number: 77199820026

Status: Excess

Reason: Extensive deterioration

Bldg. CAD-127

Cheatham Annex

Williamsburg VA 23185-

Landholding Agency: Navy

Property Number: 77199820027

Status: Excess

Reason: Extensive deterioration

CAD-40

Cheatham Annex

Williamsburg VA 23185-

Landholding Agency: Navy

Property Number: 77199830084

Status: Unutilized

Reasons: Secured area, Extensive deterioration

Bldg. 3074

Marine Corps Base

Quantico Co: VA 22134-

Landholding Agency: Navy

Property Number: 77199920026

Status: Unutilized

Reason: Extensive deterioration

Bldg. 449

Norfolk Naval Shipyard

Portsmouth Co: VA 23709-

Landholding Agency: Navy

Property Number: 77199920068

Status: Excess

Reason: Extensive deterioration

Bldg. 450

Norfolk Naval Shipyard

Portsmouth Co: VA 23709-

Landholding Agency: Navy

Property Number: 77199920069

Status: Excess

Reason: Extensive deterioration

Bldg. 451

Norfolk Naval Shipyard

Portsmouth Co: VA 23709-

Landholding Agency: Navy

Property Number: 77199920070

Status: Excess

Reason: Extensive deterioration

Bldg. 453

Norfolk Naval Shipyard

Portsmouth Co: VA 23709-

Landholding Agency: Navy

Property Number: 77199920071

Status: Excess

Reason: Extensive deterioration

Bldg. 454

Norfolk Naval Shipyard

Portsmouth Co: VA 23709-

Landholding Agency: Navy

Property Number: 77199920072

Status: Excess

Reason: Extensive deterioration

Bldg. 708

Norfolk Naval Shipyard

Portsmouth Co: VA 23709-

Landholding Agency: Navy

Property Number: 77199920073

Status: Excess

Reason: Extensive deterioration

Bldg. 709

Norfolk Naval Shipyard

Portsmouth Co: VA 23709-

Landholding Agency: Navy

Property Number: 77199920074

Status: Excess

Reason: Extensive deterioration

Bldg. 710

Norfolk Naval Shipyard

Portsmouth Co: VA 23709-

Landholding Agency: Navy

Property Number: 77199920075

Status: Excess

Reason: Extensive deterioration

Bldg. 711

Norfolk Naval Shipyard

Portsmouth Co: VA 23709-

Landholding Agency: Navy

Property Number: 77199920076

Status: Excess

Reason: Extensive deterioration

Bldg. 712

Norfolk Naval Shipyard

Portsmouth Co: VA 23709-

Landholding Agency: Navy

Property Number: 77199920077

Status: Excess

Reason: Extensive deterioration

Bldg. 713

Norfolk Naval Shipyard

Portsmouth Co: VA 23709-

Landholding Agency: Navy

Property Number: 77199920078

Status: Excess

Reason: Extensive deterioration

Bldg. 714

Norfolk Naval Shipyard

Portsmouth Co: VA 23709-

Landholding Agency: Navy

Property Number: 77199920079

Status: Excess

Reason: Extensive deterioration

Bldg. 715

Norfolk Naval Shipyard

Portsmouth Co: VA 23709-

Landholding Agency: Navy

Property Number: 77199920080

Status: Excess

Reason: Extensive deterioration

Bldg. 716

Norfolk Naval Shipyard

Portsmouth Co: VA 23709-

Landholding Agency: Navy

Property Number: 77199920081

Status: Excess

Reason: Extensive deterioration

Bldg. 717

Norfolk Naval Shipyard

Portsmouth Co: VA 23709-

Landholding Agency: Navy

Property Number: 77199920082

Status: Excess

Reason: Extensive deterioration

Bldg. 718

Norfolk Naval Shipyard

Portsmouth Co: VA 23709-

Landholding Agency: Navy

Property Number: 77199920083

Status: Excess

Reason: Extensive deterioration

Bldg. 1454

Norfolk Naval Shipyard

Portsmouth Co: VA 23709-

Landholding Agency: Navy

Property Number: 77199920084

Status: Excess

Reason: Extensive deterioration

Bldg. 3170

Marine Corps Base

Quantico Co: VA 22134-

Landholding Agency: Navy

Property Number: 77199940064

Status: Unutilized

Reason: Extensive deterioration

Bldgs. 1252, 1277

Marine Corps Base

Quantico Co: VA 22134-

Landholding Agency: Navy

Property Number: 77199940065

Status: Unutilized

Reason: Extensive deterioration

Bldg. 7

Naval Weapons Station

Yorktown Co: VA 23691-

Landholding Agency: Navy

Property Number: 77200020009

Status: Unutilized

Reasons: Within 2000 ft. of flammable or explosive material, Secured area

Bldg. 12

Naval Weapons Station

Yorktown Co: VA 23691-

Landholding Agency: Navy

Property Number: 77200020010

Status: Unutilized

Reasons: Within 2000 ft. of flammable or explosive material, Secured area, Extensive deterioration

Bldg. 24

Naval Weapons Station

Yorktown Co: VA 23691-

Landholding Agency: Navy

Property Number: 77200020011

Status: Unutilized

Reasons: Within 2000 ft. of flammable or explosive material, Secured area,

Bldg. 34

Naval Weapons Station

Yorktown Co: VA 23691-

Landholding Agency: Navy

Property Number: 77200020012

Status: Unutilized

Reasons: Within 2000 ft. of flammable or explosive material, Secured area, Extensive deterioration

Bldg. 108

Naval Weapons Station

Yorktown Co: VA 23691-

Landholding Agency: Navy

Property Number: 77200020013

Status: Unutilized

Reasons: Within 2000 ft. of flammable or explosive material, Secured area, Extensive deterioration

Bldg. 299

Naval Weapons Station

Yorktown Co: VA 23691-

Landholding Agency: Navy

Property Number: 77200020014

Status: Unutilized

Reasons: Within 2000 ft. of flammable or explosive material, Secured area, Extensive deterioration

Bldg. 400

Naval Weapons Station

Yorktown Co: VA 23691-

Landholding Agency: Navy

Property Number: 77200020015

Status: Unutilized

Reasons: Within 2000 ft. of flammable or explosive material, Secured area, Extensive deterioration

Bldg. 436

Naval Weapons Station

Yorktown Co: VA 23691-

Landholding Agency: Navy

Property Number: 77200020016

Status: Unutilized

Reasons: Within 2000 ft. of flammable or explosive material, Secured area, Extensive deterioration

Bldgs. 442, 443

Naval Weapons Station

Yorktown Co: VA 23691-

Landholding Agency: Navy

Property Number: 77200020017

Status: Unutilized

Reasons: Within 2000 ft. of flammable or explosive material, Secured area, Extensive deterioration

Bldg. 530

Naval Weapons Station

Yorktown Co: VA 23691-

Landholding Agency: Navy

Property Number: 77200020018

Status: Unutilized

Reasons: Within 2000 ft. of flammable or explosive material, Secured area, Extensive deterioration

Bldg. 532

Naval Weapons Station

Yorktown Co: VA 23691-

Landholding Agency: Navy

Property Number: 77200020019

Status: Unutilized

Reasons: Within 2000 ft. of flammable or explosive material, Secured area, Extensive deterioration

Bldgs. 646-651

Naval Weapons Station

Yorktown Co: VA 23691-

Landholding Agency: Navy

Property Number: 77200020020

Status: Unutilized

Reasons: Within 2000 ft. of flammable or explosive material, Secured area, Extensive deterioration

Bldgs. 758, 759

Naval Weapons Station

Yorktown Co: VA 23691-

Landholding Agency: Navy

Property Number: 77200020021

Status: Unutilized

Reasons: Within 2000 ft. of flammable or explosive material, Secured area, Extensive deterioration

Bldg. 764

Naval Weapons Station

Yorktown Co: VA 23691-

Landholding Agency: Navy

Property Number: 77200020022

Status: Unutilized

Reasons: Within 2000 ft. of flammable or explosive material, Secured area, Extensive deterioration

Bldg. 784

Naval Weapons Station

Yorktown Co: VA 23691-

Landholding Agency: Navy

Property Number: 77200020023

Status: Unutilized

Reasons: Within 2000 ft. of flammable or explosive material, Secured area, Extensive deterioration

Bldg. 786

Naval Weapons Station Yorktown

Yorktown Co: VA 23691-

Landholding Agency: Navy

Property Number: 77200020024

Status: Unutilized

Reasons: Within 2000 ft. of flammable or explosive material, Secured area, Extensive deterioration

Bldg. 788

Naval Weapons Station

Yorktown Co: VA 23691-

Landholding Agency: Navy

Property Number: 77200020025

Status: Unutilized

Reasons: Within 2000 ft. of flammable or explosive material, Secured area, Extensive deterioration

Bldg. 790

Naval Weapons Station

Yorktown Co: VA 23691-

Landholding Agency: Navy

Property Number: 77200020026

Status: Unutilized

Reasons: Within 2000 ft. of flammable or explosive material, Secured area, Extensive deterioration

Bldg. 814

Naval Weapons Station

Yorktown Co: VA 23691-

Landholding Agency: Navy

Property Number: 77200020027

Status: Unutilized

Reasons: Within 2000 ft. of flammable or explosive material, Secured area, Extensive deterioration

Bldgs. 1955-1957

Naval Weapons Station

Yorktown Co: VA 23691-

Landholding Agency: Navy

Property Number: 77200020028

Status: Unutilized

Reasons: Within 2000 ft. of flammable or explosive material, Secured area, Extensive deterioration

Bldgs. 1960, 1961, 1964

Naval Weapons Station

Yorktown Co: VA 23691-

Landholding Agency: Navy

Property Number: 77200020029

Status: Unutilized

Reasons: Within 2000 ft. of flammable or explosive material, Secured area, Extensive deterioration

Bldgs. 1980, 1981

Naval Weapons Station

Yorktown Co: VA 23691-

Landholding Agency: Navy

Property Number: 77200020030

Status: Unutilized

Reasons: Within 2000 ft. of flammable or explosive material, Secured area, Extensive deterioration

Bldg. 160

Cheatham Annex

Williamsburg Co: VA 23185-5830

Landholding Agency: Navy

Property Number: 77200020031

Status: Unutilized

Reasons: Secured area, Extensive deterioration

Bldg. 1453

Norfolk Naval Shipyard

Portsmouth Co: VA 23709-5000

Landholding Agency: Navy

Property Number: 77200020063

Status: Unutilized

Reasons: Secured area, Extensive deterioration

Bldg. 2185

Marine Corps Base

Quantico Co: VA 00000-

Landholding Agency: Navy

Property Number: 77200040018

Status: Excess

Reason: Extensive deterioration

Facility 85

St. Julien's Annex

Portsmouth Co: VA 23511-

Landholding Agency: Navy

Property Number: 77200110121

Status: Excess

Reason: Extensive deterioration

Facility 113

St. Julien's Annex

Portsmouth Co: VA 23511-

Landholding Agency: Navy

Property Number: 77200110122

Status: Excess

Reason: Extensive deterioration

Structure 161

St. Julian's Creek Annex

Portsmouth Co: VA 23511-

Landholding Agency: Navy

Property Number: 77200110123

Status: Excess

Reasons: Secured area, Extensive deterioration

Structure 162

St. Julian's Creek Annex

Portsmouth Co: VA 23511-

Landholding Agency: Navy

Property Number: 77200110124

Status: Excess

Reasons: Secured area, Extensive deterioration

Structure 236

St. Julian's Creek Annex

Portsmouth Co: VA 23511-

Landholding Agency: Navy

Property Number: 77200110125

Status: Excess

Reasons: Secured area, Extensive deterioration

Structure 273

St. Julian's Creek Annex

Portsmouth Co: VA 23511-

Landholding Agency: Navy

Property Number: 77200110126

Status: Excess

Reasons: Secured area, Extensive deterioration

Structure 276

St. Julian's Creek Annex

Portsmouth Co: VA 23511-

Landholding Agency: Navy

Property Number: 77200110127

Status: Excess

Reasons: Secured area, Extensive deterioration

Structure 327

St. Julian's Creek Annex

Portsmouth Co: VA 23511-

Landholding Agency: Navy

Property Number: 77200110128

Status: Excess

Reasons: Secured area, Extensive deterioration

Structure 358

St. Julian's Creek Annex

Portsmouth Co: VA 23511-

Landholding Agency: Navy

Property Number: 77200110129

Status: Excess

Reasons: Secured area, Extensive deterioration

Bldg. 13

Naval Weapons Station

Yorktown Co: VA 23691-

Landholding Agency: Navy

Property Number: 77200120024

Status: Excess

Reasons: Within 2000 ft. of flammable or explosive material, Secured area, Extensive deterioration

Bldg. 14

Naval Weapons Station

Yorktown Co: VA 2369 -

Landholding Agency: Navy

Property Number: 77200120025

Status: Excess

Reasons: Within 2000 ft. of flammable or explosive material, Secured area, Extensive deterioration

Bldg. 22

Naval Weapons Station

Yorktown Co: VA 23691-

Landholding Agency: Navy

Property Number: 77200120026

Status: Excess

Reasons: Within 2000 ft. of flammable or explosive material, Secured area, Extensive deterioration

Bldg. 23

Naval Weapons Station

Yorktown Co: VA 23691-

Landholding Agency: Navy

Property Number: 77200120027

Status: Excess

Reasons: Within 2000 ft. of flammable or explosive material, Secured area, Extensive deterioration

Bldg. 70

Naval Weapons Station

Yorktown Co: VA 23691-

Landholding Agency: Navy

Property Number: 77200120028

Status: Excess

Reasons: Within 2000 ft. of flammable or explosive material, Secured area, Extensive deterioration

Bldg. 87

Naval Weapons Station

Yorktown Co: VA 23691-

Landholding Agency: Navy

Property Number: 77200120029

Status: Excess

Reasons: Within 2000 ft. of flammable or explosive material, Secured area, Extensive deterioration

Bldg. 88

Naval Weapons Station

Yorktown Co: VA 23691-

Landholding Agency: Navy

Property Number: 77200120030

Status: Excess

Reasons: Within 2000 ft. of flammable or explosive material, Secured area, Extensive deterioration

Bldg. 118

Naval Weapons Station

Yorktown Co: VA 23691-

Landholding Agency: Navy

Property Number: 77200120031

Status: Excess

Reasons: Within 2000 ft. of flammable or explosive material, Secured area, Extensive deterioration

Bldg. 385

Naval Weapons Station

Yorktown Co: VA 23691-

Landholding Agency: Navy

Property Number: 77200120032

Status: Excess

Reasons: Within 2000 ft. of flammable or explosive material, Secured area, Extensive deterioration

Bldg. 396A

Naval Weapons Station

Yorktown Co: VA 23691-

Landholding Agency: Navy

Property Number: 77200120033

Status: Excess

Reasons: Within 2000 ft. of flammable or explosive material, Secured area, Extensive deterioration

Bldg. 492

Naval Weapons Station

Yorktown Co: VA 23691-

Landholding Agency: Navy

Property Number: 77200120034

Status: Excess

Reasons: Secured area, Extensive deterioration

Bldg. 507

Naval Weapons Station

Yorktown Co: VA 23691-

Landholding Agency: Navy

Property Number: 77200120035

Status: Excess

Reasons: Within 2000 ft. of flammable or explosive material, Secured area

Bldg. 612

Naval Weapons Station

Yorktown Co: VA 23691-

Landholding Agency: Navy

Property Number: 77200120036

Status: Excess

Reasons: Within 2000 ft. of flammable or explosive material, Secured area, Extensive deterioration

Bldg. 1224

Naval Weapons Station

Yorktown Co: VA 23691-

Landholding Agency: Navy

Property Number: 77200120037

Status: Excess

Reasons: Within 2000 ft. of flammable or explosive material, Secured area, Extensive deterioration

Bldg. 1225

Naval Weapons Station

Yorktown Co: VA 23691-

Landholding Agency: Navy

Property Number: 77200120038

Status: Excess

Reasons: Within 2000 ft. of flammable or explosive material, Secured area, Extensive deterioration

Bldg. 1226

Naval Weapons Station

Yorktown Co: VA 23691-

Landholding Agency: Navy

Property Number: 77200120039

Status: Excess

Reasons: Within 2000 ft. of flammable or explosive material, Secured area, Extensive deterioration

Bldg. 1227

Naval Weapons Station

Yorktown Co: VA 23691-

Landholding Agency: Navy

Property Number: 77200120040

Status: Excess

Reasons: Within 2000 ft. of flammable or explosive material, Secured area, Extensive deterioration

Bldg. 1228

Naval Weapons Station

Yorktown Co: VA 23691-

Landholding Agency: Navy

Property Number: 77200120041

Status: Excess

Reasons: Within 2000 ft. of flammable or explosive material, Secured area, Extensive deterioration

Bldg. 1587

Naval Weapons Station

Yorktown Co: VA 23691-

Landholding Agency: Navy

Property Number: 77200120042

Status: Excess

Reasons: Within 2000 ft. of flammable or explosive material, Secured area, Extensive deterioration

Bldg. 1588

Naval Weapons Station

Yorktown Co: VA 23691-

Landholding Agency: Navy

Property Number: 77200120043

Status: Excess

Reasons: Within 2000 ft. of flammable or explosive material, Secured area, Extensive deterioration

Bldg. 1589

Naval Weapons Station

Yorktown Co: VA 23691-

Landholding Agency: Navy

Property Number: 77200120044

Status: Excess

Reasons: Within 2000 ft. of flammable or explosive material, Secured area, Extensive deterioration

Bldg. 1590

Naval Weapons Station

Yorktown Co: VA 23691-

Landholding Agency: Navy

Property Number: 77200120045

Status: Excess

Reasons: Within 2000 ft. of flammable or explosive material, Secured area, Extensive deterioration

Bldg. 1591

Naval Weapons Station

Yorktown Co: VA 23691-

Landholding Agency: Navy

Property Number: 77200120046

Status: Excess

Reasons: Within 2000 ft. of flammable or explosive material, Secured area, Extensive deterioration

Bldg. 1612

Naval Weapons Station

Yorktown Co: VA 23691-

Landholding Agency: Navy

Property Number: 77200120047

Status: Excess

Reasons: Secured area, Extensive deterioration

Structure 1743

Naval Weapons Station

Yorktown Co: VA 23691-

Landholding Agency: Navy

Property Number: 77200120048

Status: Excess

Reasons: Within 2000 ft. of flammable or explosive material, Secured Area, Extensive deterioration

Bldg. 103B

Naval Weapons Station

Yorktown Co: VA 23691-

Landholding Agency: Navy

Property Number: 77200120049

Status: Excess

Reasons: Secured Area, Extensive deterioration

Bldg. B109

Naval Surface Warfare Center

Dalgren Co: King George VA 22448-

Landholding Agency: Navy

Property Number: 77200120050

Status: Unutilized

Reason: Extensive deterioration

Bldg. B112

Naval Surface Warfare Center

Dalgren Co: King George VA 22448-

Landholding Agency: Navy

Property Number: 77200120051

Status: Unutilized

Reason: Extensive deterioration

Bldg. 123

Naval Surface Warfare Center

Dalgren Co: King George VA 22448-

Landholding Agency: Navy

Property Number: 77200120052

Status: Unutilized

Reason: Extensive deterioration

Bldg. B132

Naval Surface Warfare Center

Dalgren Co: King George VA 22448-

Landholding Agency: Navy

Property Number: 77200120053

Status: Unutilized

Reason: Extensive deterioration

Bldg. B157

Naval Surface Warfare Center

Dalgren Co: King George VA 22448-

Landholding Agency: Navy

Property Number: 77200120054

Status: Unutilized

Reason: Extensive deterioration

Bldg. 170A

Naval Surface Warfare Center

Dalgren Co: King George VA 22448-

Landholding Agency: Navy

Property Number: 77200120055

Status: Unutilized

Reason: Extensive deterioration

Bldg. B239

Naval Surface Warfare Center

Dalgren Co: King George VA 22448-

Landholding Agency: Navy

Property Number: 77200120056

Status: Unutilized

Reason: Extensive deterioration

Bldg. B362

Naval Surface Warfare Center

Dalgren Co: King George VA 22448-

Landholding Agency: Navy

Property Number: 77200120057

Status: Unutilized

Reason: Extensive deterioration

Bldg. B396

Naval Surface Warfare Center

Dalgren Co: King George VA 22448-

Landholding Agency: Navy

Property Number: 77200120058

Status: Unutilized

Reason: Extensive deterioration

Bldg. B402

Naval Surface Warfare Center

Dalgren Co: King George VA 22448-

Landholding Agency: Navy

Property Number: 77200120059

Status: Unutilized

Reason: Extensive deterioration

Bldg. B425

Naval Surface Warfare Center

Dalgren Co: King George VA 22448-

Landholding Agency: Navy

Property Number: 77200120060

Status: Unutilized

Reason: Extensive deterioration

Bldg. B428

Naval Surface Warfare Center

Dalgren Co: King George VA 22448-

Landholding Agency: Navy

Property Number: 77200120061

Status: Unutilized

Reason: Extensive deterioration

Bldg. B451

Naval Surface Warfare Center

Dalgren Co: King George VA 22448-

Landholding Agency: Navy

Property Number: 77200120062

Status: Unutilized

Reason: Extensive deterioration

Bldg. B465

Naval Surface Warfare Center

Dalgren Co: King George VA 22448-

Landholding Agency: Navy

Property Number: 77200120063

Status: Unutilized

Reason: Extensive deterioration

Bldg. B1100

Naval Surface Warfare Center

Dalgren Co: King George VA 22448-

Landholding Agency: Navy

Property Number: 77200120064

Status: Unutilized

Reason: Extensive deterioration

Bldg. B1124

Naval Surface Warfare Center

Dalgren Co: King George VA 22448-

Landholding Agency: Navy

Property Number: 77200120065

Status: Unutilized

Reason: Extensive deterioration

Bldg. B9411

Naval Surface Warfare Center

Dalgren Co: King George VA 22448-

Landholding Agency: Navy

Property Number: 77200120066

Status: Unutilized

Reason: Extensive deterioration

Bldg. B9429

Naval Surface Warfare Center

Dalgren Co: King George VA 22448-

Landholding Agency: Navy

Property Number: 77200120067

Status: Unutilized

Reason: Extensive deterioration

Tracks

Naval Surface Warfare Center

Dalgren Co: King George VA 22448-

Landholding Agency: Navy

Property Number: 77200120068

Status: Unutilized

Reason: Extensive deterioration

Bldg. 232

St. Julian's Creek Annex

Portsmouth Co: VA -

Landholding Agency: Navy

Property Number: 77200120130

Status: Excess

Reason: Extensive deterioration

Washington

Bldg. 6661

Naval Submarine Base, Bangor

Silverdale Co: Kitsap WA 98315-6499

Landholding Agency: Navy

Property Number: 77199730039

Status: Unutilized

Reason: Secured Area

Bldg. 604

Manchester Fuel Department

Port Orchard WA 98366-

Landholding Agency: Navy

Property Number: 77199810170

Status: Excess

Reasons: Within 2000 ft. of flammable or explosive material, Secured area

Bldg. 288

Fleet Industrial Supply Center

Bremerton WA 98314-5100

Landholding Agency: Navy

Property Number: 77199810171

Status: Excess

Reasons: Within 2000 ft. of flammable or explosive material, Secured area

Bldg. 47

Naval Radio Station T Jim Creek

Arlington Co: Snohomish WA 98223-

Landholding Agency: Navy

Property Number: 77199820056

Status: Unutilized

Reasons: Secured area, Extensive deterioration

Bldg. 48

Naval Radio Station T Jim Creek

Arlington Co: Snohomish WA 98223-

Landholding Agency: Navy

Property Number: 77199820057

Status: Unutilized

Reasons: Secured area, Extensive deterioration

Coal Handling Facilities

Puget Sound Naval Shipyard #908, 919, 926-929

Bremerton WA 98314-5000

Landholding Agency: Navy

Property Number: 77199820142

Status: Excess

Reason: Within 2000 ft. of flammable or explosive material

Bldg. 193

Puget Sound Naval Shipyard

Bremerton WA 98310-

Landholding Agency: Navy

Property Number: 77199820143

Status: Unutilized

Reason: Contamination

Bldg. 202

Naval Air Station Whidbey Island

Oak Harbor WA 98278-

Landholding Agency: Navy

Property Number: 77199830019

Status: Excess

Reason: Within 2000 ft. of flammable or explosive material

Bldg. 2649

Naval Air Station Whidbey Island

Oak Harbor WA 98278-

Landholding Agency: Navy

Property Number: 77199830020

Status: Excess

Reasons:

Within 2000 ft. of flammable or explosive material, Extensive deterioration

Bldgs. 35, 36

Naval Radio Station T Jim Creek

Arlington Co: Snohomish WA 98223-

Landholding Agency: Navy

Property Number: 77199830076

Status: Unutilized

Reason: Extensive deterioration

Bldg. 918

Puget Sound Naval Shipyard

Bremerton WA 98314-5000

Landholding Agency: Navy

Property Number: 77199840020

Status: Unutilized

Reasons: Within 2000 ft. of flammable or explosive material, Secured area

Bldg. 894

Naval Undersea Warfare Center

Keyport Co: Kitsap WA 98345-7610

Landholding Agency: Navy

Property Number: 77199920085

Status: Underutilized

Reasons: Within 2000 ft. of flammable or explosive material, Secured area

Bldg. 73

Naval Undersea Warfare Center

Keyport Co: Kitsap WA 98345-

Landholding Agency: Navy

Property Number: 77199920152

Status: Underutilized

Reasons: Within 2000 ft. of flammable or explosive material, Secured area

Bldg. 210A

Naval Station Bremerton

Bremerton Co: WA 98314-

Landholding Agency: Navy

Property Number: 77199930021

Status: Excess

Reasons: Within 2000 ft. of flammable or explosive material, Secured area

Bldg. 511

Naval Station Bremerton

Bremerton Co: WA 98314-

Landholding Agency: Navy

Property Number: 77199930022

Status: Excess

Reasons: Within 2000 ft. of flammable or explosive material, Secured area, Extensive deterioration

Bldg. 527

Naval Station Bremerton

Bremerton Co: WA 98314-

Landholding Agency: Navy

Property Number: 77199930023

Status: Excess

Reasons: Within 2000 ft. of flammable or explosive material, Secured area

Bldg. 97

Naval Air Station

Whidbey Island

Oak Harbor Co: WA 98278-

Landholding Agency: Navy

Property Number: 77199930040

Status: Unutilized

Reason: Extensive deterioration

Bldg. 331

Naval Undersea Warfare Center

Keyport Co: Kitsap WA 98345-

Landholding Agency: Navy

Property Number: 77199930041

Status: Unutilized

Reasons: Secured area, Extensive deterioration

Bldg. 786

Naval Undersea Warfare Center

Keyport Co: Kitsap WA 98345-

Landholding Agency: Navy

Property Number: 77199930042

Status: Unutilized

Reasons: Secured area, Extensive deterioration

Bldg. 15

Naval Air Station, Whidbey Island

Oak Harbor Co: WA 98278-3500

Landholding Agency: Navy

Property Number: 77199930071

Status: Unutilized

Reason: Extensive deterioration

Bldg. 119

Naval Air Station, Whidbey Island

Oak Harbor Co: WA 98278-3500

Landholding Agency: Navy

Property Number: 77199930072

Status: Unutilized

Reason: Extensive deterioration

Bldg. 853

Naval Air Station, Whidbey Island

Oak Harbor Co: WA 98278-3500

Landholding Agency: Navy

Property Number: 77199930073

Status: Unutilized

Reason: Extensive deterioration

Bldg. 854

Naval Air Station, Whidbey Island

Oak Harbor Co: WA 98278-3500

Landholding Agency: Navy

Property Number: 77199930074

Status: Unutilized

Reason: Extensive deterioration

Bldg. 166

Puget Sound Naval Shipyard

Bremerton Co: WA 98314-5000

Landholding Agency: Navy

Property Number: 77199930101

Status: Excess

Reason: Secured area

Bldg. 287

Puget Sound Naval Shipyard

Bremerton Co: WA 98314-5000

Landholding Agency: Navy

Property Number: 77199930102

Status: Excess

Reason: Secured area

Bldg. 418

Puget Sound Naval Shipyard

Bremerton Co: WA 98314-5000

Landholding Agency: Navy

Property Number: 77199930103

Status: Excess

Reason: Secured area

Bldg. 858

Puget Sound Naval Shipyard

Bremerton Co: WA 98314-5000

Landholding Agency: Navy

Property Number: 77199930104

Status: Excess

Reason: Secured area

Bldg. 17

Naval Radio Station

Jim Creek

Arlington Co: WA 98223-8599

Landholding Agency: Navy

Property Number: 77200010073

Status: Excess

Reasons: Secured area, Extensive deterioration

Bldg. 47

Naval Undersea Warfare

Keyport Co: Kitsap WA 98345-7610

Landholding Agency: Navy

Property Number: 77200010074

Status: Unutilized

Reasons: Within 2000 ft. of flammable or explosive material, Secured area

Whitney Point Complex

Brinnon Co: Jefferson WA 98320-9899

Landholding Agency: Navy

Property Number: 77200010102

Status: Excess

Reason: Extensive deterioration

Bldg. 398

Naval Station

Bremerton Co: WA 98314-5000

Landholding Agency: Navy

Property Number: 77200020038

Status: Unutilized

Reasons: Within 2000 ft. of flammable or explosive material, Secured area

Bldg. 976

Naval Station

Bremerton Co: WA 98314-5020

Landholding Agency: Navy

Property Number: 77200020039

Status: Unutilized

Reasons: Within 2000 ft. of flammable or explosive material, Secured area, Extensive deterioration

8 Bldgs.

Naval Station

902, 903, 905, 907, 909-911, 915

Bremerton Co: WA 98314-5020

Landholding Agency: Navy

Property Number: 77200020040

Status: Unutilized

Reasons: Within 2000 ft. of flammable or explosive material, Secured area

Bldg. 109

Naval Weapons Station

Port Hadlock Co: Jefferson WA 98339-9723

Landholding Agency: Navy

Property Number: 77200030020

Status: Unutilized

Reasons: Within 2000 ft. of flammable or explosive material, Secured area, Extensive deterioration

Bldg. 157

Naval Weapons Station

Port Hadlock Co: Jefferson WA 98339-9723

Landholding Agency: Navy

Property Number: 77200030021

Status: Unutilized

Reasons: Within 2000 ft. of flammable or explosive material, Secured area, Extensive deterioration

Bldg. 161

Naval Weapons Station

Port Hadlock Co: Jefferson WA 98339-9723

Landholding Agency: Navy

Property Number: 77200030022

Status: Unutilized

Reasons: Within 2000 ft. of flammable or explosive material, Secured area, Extensive deterioration

Bldg. 170

Naval Weapons Station

Port Hadlock Co: Jefferson WA 98339-9723

Landholding Agency: Navy

Property Number: 77200030023

Status: Unutilized

Reasons: Within 2000 ft. of flammable or explosive material, Secured area, Extensive deterioration

Bldg. 262

Naval Weapons Station

Port Hadlock Co: Jefferson WA 98339-9723

Landholding Agency: Navy

Property Number: 77200030024

Status: Unutilized

Reasons: Within 2000 ft. of flammable or explosive material, Secured area, Extensive deterioration

Bldg. 482

Puget Sound Naval Shipyard

Bremerton Co: WA 98314-5000

Landholding Agency: Navy

Property Number: 77200040019

Status: Excess

Reason: Secured area

Bldg. 529

Puget Sound Naval Shipyard

Bremerton Co: WA 98314-5000

Landholding Agency: Navy

Property Number: 77200040020

Status: Excess

Reason: Secured area

Bldg. 133

Naval Undersea Warfare Station

Keyport Co: Kitsap WA 98345-7610

Landholding Agency: Navy

Property Number: 77200120133

Status: Unutilized

Reasons: Within 2000 ft. of flammable or explosive material, Secured area, Extensive deterioration

Bldg. 2511

NAS Whidbey Island

Oak Harbor Co: Island WA 98278-3500

Landholding Agency: Navy

Property Number: 77200120157

Status: Excess

Reason: Secured Area

Land (by State)

California

Space Surv. Field Station

Portion/Off Heritage Road

San Diego CA 90012-1408

Landholding Agency: Navy

Property Number: 77199820049

Status: Excess

Reason: Within 2000 ft. of flammable or explosive material

Land

Naval Construction Battalion Center

Port Hueneme Co: Ventura CA 93043-4301

Landholding Agency: Navy

Property Number: 77199940001

Status: Underutilized

Reason: Secured Area

PCL-4 (11.60 acres)

Construction Battalion Center

Port Hueneme Co: Ventura CA 93043-4301

Landholding Agency: Navy

Property Number: 77200020095

Status: Underutilized

Reason: Secured area

Parcel 1

Naval Base Ventura

NWC & SWC 32nd Ave.

Port Hueneme Co: Ventura CA 93043-4300

Landholding Agency: Navy

Property Number: 77200110011

Status: Underutilized

Reason: Secured area

Parcel 2

Naval Base Ventura

NWC Patterson Rd.

Port Hueneme Co: Ventura CA 93043-4300

Landholding Agency: Navy

Property Number: 77200110012

Status: Underutilized

Reason: Secured area

Parcel 3

Naval Base

Port Hueneme Co: Ventura CA 93043-4300

Landholding Agency: Navy

Property Number: 77200110037

Status: Underutilized

Reason: Secured area

Parcel 4

Naval Base

Port Hueneme Co: Ventura CA 93043-4300

Landholding Agency: Navy

Property Number: 77200110038

Status: Underutilized

Reason: Secured area

Parcel 7

Naval Base

Port Hueneme Co: Ventura CA 93043-4300

Landholding Agency: Navy

Property Number: 77200110039

Status: Underutilized

Reason: Secured area

Parcel 8

Naval Base

Port Hueneme Co: Ventura CA 93043-4300

Landholding Agency: Navy

Property Number: 77200110040

Status: Underutilized

Reason: Secured area

Parcel 10

Naval Base

Port Hueneme Co: Ventura CA 93043-4300

Landholding Agency: Navy

Property Number: 77200110041

Status: Underutilized

Reason: Secured area

Parcel 11

Naval Base

Port Hueneme Co: Ventura CA 93043-4300

Landholding Agency: Navy

Property Number: 77200110042

Status: Underutilized

Reason: Secured area

Parcel 12

Naval Base

Port Hueneme Co: Ventura CA 93043-4300

Landholding Agency: Navy

Property Number: 77200110043

Status: Underutilized

Reason: Secured area

Parcel 13

Naval Base

Port Hueneme Co: Ventura CA 93043-4300

Landholding Agency: Navy

Property Number: 77200110044

Status: Underutilized

Reason: Secured area

Parcel 14

Naval Base

Port Hueneme Co: Ventura CA 93043-4300

Landholding Agency: Navy

Property Number: 77200110045

Status: Underutilized

Reason: Secured area

District of Columbia

1600 sq. ft./T-88

Naval Research Lab

Washington Co: DC 20375-5320

Landholding Agency: Navy

Property Number: 77200110118

Status: Unutilized

Reason: Within 2000 ft. of flammable or explosive material

Maryland

6 Acres

Naval Air Station

Patuxent River Co: MD 20670-

Landholding Agency: Navy

Property Number: 77199940023

Status: Unutilized

Reason: Secured area

Land—5000 sq. ft.

Naval Air Station

Patuxent River Co: MD 20670-1603

Landholding Agency: Navy

Property Number: 77200010023

Status: Unutilized

Reason: Secured area

New Hampshire

Parcel #4

Portsmouth Naval Shipyard

Portsmouth Co: NH 03804-5000

Landholding Agency: Navy

Property Number: 77200010028

Status: Underutilized

Reasons: Within 2000 ft. of flammable or explosive material, Secured area

Parcel #5

Portsmouth Naval Shipyard

Portsmouth Co: NH 03804-5000

Landholding Agency: Navy

Property Number: 77200010029

Status: Underutilized

Reasons: Within 2000 ft. of flammable or explosive material, Secured area

Parcel #6

Portsmouth Naval Shipyard

Portsmouth Co: NH 03804-5000

Landholding Agency: Navy

Property Number: 77200010030

Status: Underutilized

Reasons: Within 2000 ft. of flammable or explosive material, Secured area

Parcel #7

Portsmouth Naval Shipyard

Portsmouth Co: NH 03804-5000

Landholding Agency: Navy

Property Number: 77200010031

Status: Underutilized

Reasons: Within 2000 ft. of flammable or explosive material, Secured area

North Carolina

0.85 parcel of land

Marine Corps Air Station, Cherry Point

Havelock Co: Craven NC 28533-

Landholding Agency: Navy

Property Number: 77199740074

Status: Unutilized

Reason: Secured area

Parcel of land 144 sq. ft.

Marine Corps Base

Camp Lejeune Co: Onslow NC 28542-

Landholding Agency: Navy

Property Number: 77200120126

Status: Underutilized

Reason: Secured area

Washington

Land-Port Hadlock Detachment

Naval Ordnance Center Pacific Division

Port Hadlock Co: Jefferson WA 98339-

Landholding Agency: Navy

Property Number: 77199640019

Status: Underutilized

Reasons: Within 2000 ft. of flammable or explosive material, Secured area

[FR Doc. 01-22409 Filed 9-6-01; 8:45 am]

BILLING CODE 4210-29-P